ENVIRONMENTAL PROTECTION AGENCY

40 CFR Part 180

[EPA-HQ-OPP-2006-0766; FRL-9918-40]

RIN 2070-AJ28

Tolerance Crop Grouping Program IV

AGENCY: Environmental Protection Agency (EPA).

ACTION: Proposed rule.

SUMMARY: EPA is proposing revisions to its pesticide tolerance crop grouping regulations, which allow the establishment of tolerances for multiple, related crops based on data from a representative set of crops. EPA is proposing five new crop groups, two new and two revised commodity definitions, and revisions to the regulations on the interaction of crop group tolerances with processed food tolerances and meat, milk, and egg tolerances. Once final, EPA expects these revisions to promote greater use of crop groupings for tolerance-setting purposes, both domestically and in countries that export food to the United States. This is the fourth in a series of planned crop group updates expected to be proposed over the next several years.

DATES: Comments must be received on or before January 13, 2015.

ADDRESSES: Submit your comments, identified by docket identification (ID) number EPA-HQ-OPP-2006-0766, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Barbara Madden, Registration Division (7505P), Office of Pesticide Programs, Environmental Protection Agency, 1200 Pennsylvania Ave. NW., Washington, DC 20460-0001; telephone number: (703) 305-6463; email address: madden.barbara@epa.gov.

SUPPLEMENTARY INFORMATION:

I. General Information

A. Legal Authority

EPA is initiating this rulemaking to amend the existing crop grouping regulations under section 408(e)(1)(C) of the Federal Food, Drug, and Cosmetic Act (FFDCA), which authorizes EPA to establish “general procedures and requirements to implement [section 408].” 21 U.S.C. 346a(e)(1)(C). Under FFDCA section 408, EPA is authorized to establish tolerances for pesticide chemical residues in food. EPA establishes tolerances for each pesticide based on the potential risks to human health posed by that pesticide. A tolerance is the maximum permissible residue level established for a pesticide in raw agricultural produce and processed foods. The crop group regulations currently in §§ 180.40 and 180.41 enable the establishment of tolerances for a group of crops based on residue data for certain crops that are representative of the group and have been established under FFDCA section 408(e)(1)(C).

B. Does this action apply to me?

You may be potentially affected by this action if you are an agricultural producer or food manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

C. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Background

A. Tolerance-Setting Requirements and Petitions From the Interregional Research Project Number 4 (IR-4) To Expand the Existing Crop Grouping System

EPA is authorized to establish maximum residue limits (MRLs) or tolerances for pesticide chemical residues in or on food commodities under FFDCA section 408 (21 U.S.C. 346a). EPA establishes pesticide tolerances only after determining that aggregate exposure to the pesticide is considered safe. The U.S. Food and Drug Administration (FDA) and the U.S. Department of Agriculture (USDA) enforce compliance with tolerance limits.

Traditionally, tolerances are established for a specific pesticide and commodity combination. However, under EPA's crop grouping regulations (§ 180.41), a single tolerance may be established that applies to a group of related commodities. For example, Leafy Vegetable Crop Group 4-14 is proposed to include 62 commodities, with head lettuce, leaf lettuce, spinach, and mustard greens as the representative crops. Crop group tolerances may be established based on residue data from designated representative commodities within the group. Representative commodities are selected based on EPA's determination that they are likely to bear the maximum level of residue that could occur on any crop within the group. Once a crop group tolerance is established, the tolerance level applies to all commodities within the group.

This proposed rule is the fourth in a series of planned crop group amendments expected to be completed over the next several years. Specific information regarding the history of the crop group regulations, the previous amendments to the regulations and the process for amending crop groups can be found in the Federal Register of May 23, 2007 (Ref. 1). Specific information regarding how the Agency implements crop group amendments can be found in § 180.40(j).

This proposal is based upon five petitions developed by the International Crop Grouping Consulting Committee (ICGCC) workgroup and submitted to EPA by a nation-wide cooperative project, IR-4. These petitions and the supporting monographs are included in the docket for this action, under docket ID number EPA-HQ-OPP-2006-0766 at http://regulations.gov. EPA expects that a series of additional petitions seeking amendments and changes to the crop grouping regulations (§ 180.41) will originate from the ICGCC workgroup over the next several years.

EPA believes that this proposal is a burden-reducing regulation. It will provide for greater sharing of data by permitting the results from a magnitude of residue field trial studies in one crop to be applied to other, similar crops. The primary beneficiaries are minor crop producers and consumers. Minor crop producers will benefit because lower registration costs will encourage more products to be registered on minor crops, providing additional tools for pest control. Consumers are expected to benefit by having more affordable and abundant food products available. Secondary beneficiaries include pesticide registrants, as expanded markets for pesticide products will lead to increased sales.

EPA believes that data from representative crops will not underestimate the public exposure to pesticide residues through the consumption of treated crops. IR-4, which is publicly funded, will also more efficiently use resources as a result of this rule. Revisions to the crop grouping scheme will result in no appreciable costs or negative impacts to consumers, minor crop producers, pesticide registrants, the environment, or human health.

B. International Considerations

1. North American Free Trade Agreement (NAFTA) partner involvement in proposal. EPA's Office of Pesticide Programs' Chemistry Science Advisory Council (ChemSAC), an internal Agency peer review committee, provided a detailed analysis for each proposed crop group to Canada's Pest Management Regulatory Agency (PMRA), IR-4, and the government of Mexico for their review and comment, and invited these parties to participate in the ChemSAC meeting to finalize the recommendations for each petition.

PMRA has indicated that it will, in parallel with the United States effort and under the authority of Canada's Pest Control Products (PCP) Act (2002), establish equivalent crop groups. Additionally, once the new crop groups become effective in the United States, Mexico will have them as a reference for the establishment of maximum residue limits in Mexico.

2. Relationship of proposal to Codex activities. The United States and Canadian Delegations to the Codex Committee on Pesticide Residues (CCPR) have an ongoing effort to harmonize the NAFTA crop groups and representative commodities with those being developed by Codex, an international commission created to develop international food standards, guidelines and related texts, as part of their revision of the Codex Classification of Foods and Feeds. Canada and the United States are working closely with the Chairs of the Codex group for this project (The Netherlands and the United States) to coordinate the U.S. crop group amendments with the efforts to amend the Codex crop groups. The goals of coordinating these NAFTA activities with Codex activities are to minimize differences within and among the Unites States and Codex groups and to develop representative commodities for each group that will be acceptable on an international basis. These efforts could lead to the increased harmonization of tolerances and MRL recommendations.

C. Scheme for Organization of Revised and Pre-Existing Crop Groups

EPA has amended the generic crop group regulations to include an explicit scheme for how revised crop groups will be organized in the regulations.

In brief, the regulations now specify that when a crop group is amended in a manner that expands or contracts its coverage of commodities, EPA will retain the pre-existing crop group in § 180.41; insert the new, related crop group immediately after the pre-existing crop group in the Code of Federal Regulations (CFR); and title the new, related crop group in a way that clearly differentiates it from the pre-existing crop group. The new, related crop group will retain roughly the same name and number as the pre-existing group except that the number will be followed by a hyphen and the final two digits of the year it is established. For example, EPA is proposing to revise Crop Group 5: Brassica Leafy Vegetables. The revised group is proposed be titled Crop Group 5-14: Head and Stem Brassica Vegetable. Although EPA will initially retain pre-existing crop groups that have been superseded by new crop groups, EPA will not establish new tolerances under the pre-existing groups. Further, EPA plans to eventually convert tolerances for any pre-existing crop groups to tolerances with the coverage of the new crop group. This conversion will be effected both through the registration review process and in the course of establishing new tolerances for a pesticide. To this end, EPA requests that petitioners for tolerances address this issue in their petitions.

III. Specific Proposed Revisions

This unit explains the proposed amendments to the crop group regulations.

A. Crop Group 4-14: Leafy Vegetable Group

EPA is proposing to expand Leafy Vegetable, except Brassica Crop Group 4 to both add and remove commodities and to restructure the group. EPA proposes to name the new crop group the Leafy Vegetable Crop Group 4-14.

1. Add new commodities. In creating new Crop Group 4-14, EPA proposes to include most, but not all, commodities currently in Crop Group 4 and to add the following 41 commodities currently not in Crop Group 4: Aster, Indian, Kalimeris indica (L.) Sch. Bip.; Blackjack, Bidens pilosa L.; broccoli raab, Brassica ruvo L.H. Bailey; broccoli, Chinese, Brassica oleracea var. alboglabra (L.H. Bailey) Musil; cabbage, abyssinian, Brassica carinata A. Braun; cabbage, seakale, Brassica oleracea L. var. costata DC.; Cat's whiskers, Cleome gynandra L.; Cham-chwi, Doellingeria scabra (Thunb.) Nees; Cham-na-mul, Pimpinella calycina Maxim; Chinese cabbage, bok choy, Brassica rapa subsp. chinensis (L.) Hanelt; Chipilin, Crotalaria longirostrata Hook & Arn; cilantro, fresh leaves, Coriandrum sativum L.; collards, Brassica oleracea var. Viridis L.; Cosmos, Cosmos caudatus Kunth; Dang-gwi, Angelica gigas; dillweed, Anethum graveolens L.; Dol-nam-mul, Sedum sarmentosum Bunge; Ebolo, Crassocephalum crepidioides (Benth.) S. Moore; escarole, Cichorium endive L. subsp. endiva; Fameflower, Talinum fruticosum (L.) Juss.; Feather cockscomb, Glinus oppositifolius (L.) Aug. DC.; Good King Henry, Chenopodium bonus-henricus L.; Hanover salad, Brassica napus var. Pabularia (DC.) Rchb.; Huauzontle, Chenopodium berlandieri Moq.; jute, leaves, Corchorus spp.; kale, Brassica oleracea var. Sabellica L;lettuce, bitter, Launaea cornuta (Hochst. ex Oliv. & Hiern) C. Jeffrey; Maca, Lepidium meyenii Walp.; Mizuna, Brassica rapa L. subsp. nipposinica (L. H. Bailey) Hanelt; mustard greens, Brassica juncea subsp., including Brassica juncea (L.) Czern. subsp. integrifolia (H. West) Thell., Brassica juncea (L.) Czern. var. tsatsai (T. L. Mao) Gladis; primrose, English, Primula vulgaris Huds.; radish, leaves, Raphanus sativus L. var sativus, including Raphanus sativus L. var. mougri H. W. J. Helm and Raphanus sativus L. var. oleiformis Pers; rape greens, Brassica napus L. var. napus, including Brassica rapa subsp. trilocularis (Roxb.) Hanelt, Brassica rapa subsp. dichotoma (Roxb.) Hanelt, and Brassica rapa subsp. oleifera Met; Rocket, wild, Diplotaxis tenuifolia (L.) DC.; Shepherd's purse, Capsella bursa-pastoris (L.) Medik; spinach, malabar, Basella alba L.; spinach, tanier, Xanthosoma brasiliense (Desf.) Engl.; turnip greens, Brassica rapa L. subsp. Rapa; Violet, Chinese, Asystasia gangetica (L.) T. Anderson; and watercress, Nasturtium officinale W. T. Aiton. Also included are cultivars, varieties, and hybrids of these commodities.

Included in this list of commodities are seven brassica leafy vegetables currently in Crop Group 5: Broccoli raab, Chinese cabbage (bok choy), collards, kale, mizuna, mustard greens, and rape greens. These seven commodities represent all current members of Crop subgroup 5B, with the exception of mustard spinach. Mustard spinach has not been proposed for inclusion in Crop Group 4-14 because it is one of several common names for mustard greens, which is already proposed for inclusion in Crop Group 4-14. EPA is proposing a corresponding change to Crop Group 5, which will be incorporated in the proposed new Crop Group 5-14.

The 41 new commodities proposed for Crop Group 4-14 were chosen based on similarities between the existing and additional commodities in plant morphology; cultural practices, including that all commodities are row crops; pest problems; edible food portions and lack of animal feed portions; potential exposures to residues resulting from application of specific pesticides; geographical locations; processing; and established tolerances. In particular, the brassica leafy vegetables are proposed to be moved from Crop Group 5 to revised Crop Group 4-14 because leafy brassica leafy vegetables are similar in growth pattern, leaf exposure and pesticide residues to the other leafy vegetables in Crop Group 4-14, and dissimilar from the crops in Crop Group 5, which are grown and consumed for their stem or bulb. Moreover, the leaf morphology of the moved crops leads to residues that can be higher than in broccoli and cabbage, Crop Group 5's representative commodities.

Cardoon, celery, Chinese celery, celtuce, Florence fennel, and rhubarb, which are currently included in Crop Group 4, are not proposed for Crop Group 4-14 but rather new Crop Group 22 Stalk, Stem and Leaf Petiole. The plant morphology of these six crops is more similar to crops grown and consumed for their stalk, stem, and leaf petiole, rather than for their leaves alone as are the crops in Crop Group 4-14. Edible-leaved chrysanthemum, which is also in Crop Group 4, has not been proposed for inclusion in Crop Group 4-14 because it is another common name for chrysanthemum garland, which is already included in Crop Group 4 and is proposed for inclusion in Crop Group 4-14.

2. Representative commodities for new crop group. The representative commodities in Crop Group 4 are celery, head lettuce, leaf lettuce, and spinach. EPA proposes the following representative commodities for Crop Group 4-14: Head lettuce, leaf lettuce, spinach, and mustard greens. Generally, the selection of representative commodities is based on a representative commodity that is most likely to: Contain the highest residues (whether raw or processed); be major in terms of production and consumption; and be similar in morphology, growth habit, pest problems and edible portion, and subject to similar processing as the related commodities within a group or subgroup. The representative commodities proposed for Crop Group 4-14 represent over 93% of the total leafy vegetable harvested acres reported by USDA's Census of Agriculture and are the highest consumed commodities on a per capita basis in the group; therefore, these commodities were chosen to represent Crop Group 4-14. Inclusion of brassica leafy vegetables in a separate subgroup is desirable because of potentially different actions of herbicides on leafy Brassica vegetables, verses other leafy, non-brassica crops.

3. New subgroups. The existing Crop Group 4 subgroups are Leafy greens, subgroup 4A, and Leaf petioles, subgroup 4B. In light of the significant differences between existing Crop Group 4 and proposed Crop Group 4-14, EPA is proposing the following subgroups for Crop Group 4-14:

i. Leafy greens subgroup 4-14A. (Representative commodities-Head lettuce, Leaf lettuce, and Spinach). EPA proposes that subgroup 4-14A include the following 27 commodities in addition to the 20 commodities that currently are included in subgroup 4A: Amaranth, Chinese; Amaranth, leafy; Aster, Indian; Blackjack; Cat's whiskers; Cham-chwi; Cham-na-mul; Chipilin; cilantro, fresh leaves; Cosmos; Dang-gwi; dillweed; Dol-nam-mul; Ebolo; escarole; Fameflower; Feather cockscomb; Good King Henry; Huauzontle; jute, leaves; lettuce, bitter; plantain, buckthorn; Primrose, English; spinach, malabar; spinach, tanier; Swiss chard; and Violet, Chinese. Also included are cultivars, varieties, and hybrids of these commodities.

Swiss chard is proposed for inclusion in subgroup 4-14A because both the leaves and petioles are consumed and the leaves constitute a major portion of the plant, whereas that is not the case for the brassica leafy greens in subgroup 4-14B. Arugula, upland cress, and garden cress are currently members of Crop subgroup 4A; however, these commodities are members of the Brassicaceae family and are therefore proposed for inclusion in subgroup 4-14B, because of their similarities to the other commodities proposed in that subgroup.

Leafy greens subgroup 4-14A is proposed to have head lettuce, leaf lettuce, and spinach as the representative commodities, which are the same as the current Leafy Greens subgroup 4A.

ii. Brassica leafy greens subgroup 4-14B. (Representative commodity-Mustard greens). As previously discussed, EPA is proposing to add eight brassica leafy vegetables currently in Crop Group 5 (those included in Crop subgroup 5B, except mustard spinach) to Crop Group 4-14. EPA is also proposing to create a subgroup in new Crop Group 4-14 for these commodities and 12 other similar commodities. This new subgroup 4-14B is proposed to include the following 20 commodities: Arugula; broccoli raab; broccoli, Chinese; cabbage, abyssinian; cabbage, seakale; Chinese cabbage, bok choy; collards; cress, garden; cress, upland; Hanover salad; kale; Maca; Mizuna; mustard greens; radish, leaves; rape greens; Rocket, wild; Shepherd's purse; turnip greens; and watercress. Also included are cultivars, varieties, and hybrids of these commodities.

Arugula, upland cress, and garden cress are proposed for inclusion in new subgroup 4-14B because these commodities are members of the Brassicaceae family. Inclusion of brassica leafy vegetables in a separate subgroup is desirable because of potentially different actions of herbicides on leafy brassica vegetables, versus other leafy (non-brassica) crops.

EPA proposes these additional commodities in Crop subgroups 4-14A and 4-14B because of the similarities in cultural practices, potential residue exposures, dietary consumption importance, and the lack of animal feed items. A comparison of existing tolerances supports the proposed subgroups and representative commodities for Crop Group 4-14.

EPA is not proposing to carry Leaf petiole subgroup 4B over to Crop Group 4-14 because, as previously discussed, most of the crops in that group are being proposed for inclusion in the new proposed Stalk, Stem, and Leaf Petiole Crop Group 22.

B. Crop Group 5-14: Head and Stem Brassica Vegetable Group

EPA is proposing to amend Brassica (Cole) Leafy Vegetables Crop Group 5, to remove commodities and to restructure the group. EPA proposes to name the new crop group the Brassica Head and Stem Vegetable Crop Group 5-14.

1. Commodities not included. EPA proposes to not include eight commodities currently in Crop Group 5 (Chinese broccoli (gai lon); broccoli raab (rapini); cabbage, Chinese (bok choy); collards; kale; mizuna; mustard greens; and rape greens) in Crop Group 5-14 because, as previously discussed, the commodities are being included in Crop Group 4-14. EPA also proposes to not include one other commodity currently in Crop Group 5 (kohlrabi) in Crop Group 5-14. Kohlrabi is proposed to be included in the proposed new Stalk, Stem, and Leaf Petiole Crop Group 22, as the kohlrabi's exposed, enlarged, and bulb-like stem can have higher pesticide residues than the proposed representative commodities (broccoli or cabbage) for new Crop Group 5-14.

Two other commodity terms are not being carried over from Crop Group 5 to new Crop Group 5-14. First, Chinese mustard cabbage is not a distinct crop, but rather a common name that refers to various leafy non-heading Brassica greens. The brassica leafy greens have been proposed for new Crop Group 4-14. The term Chinese mustard cabbage is also not proposed for new Crop Group 5-14 because of its non-distinctive nature. Second, cavalo broccoli is the same species as cauliflower, and the name was used to refer to various types of broccoli or cauliflower in the past. It is not proposed for inclusion in new Crop Group 5-14 because of redundancy.

Thus, EPA is proposing that new Crop Group 5-14 contain the following commodities: Broccoli, Brassica oleracea L. var. italica Plenck; brussels sprouts, Brassica oleracea L. var. gemmifera (DC.) Zenker; cabbage, Brassica oleracea L. var. capitata L.; cabbage, Chinese, napa, Brassica rapa L. subsp. pekinensis (Lour.) Hanelt; and cauliflower, Brassica oleracea L. var. capitata L. Also included are cultivars, varieties, and hybrids of these commodities.

The commodities proposed for inclusion in new Crop Group 5-14 were chosen based on similarities in plant morphology; cultural practices, including that all are row crops; pest problems; edible food and animal feed portions; residue levels; geographical locations; processing; and established tolerances on these commodities. The commodities chosen for this crop group also further the goal of international harmonization of tolerances and other MRLs, through coordinating the U.S. crop group amendments with efforts to amend the Codex crop groups.

2. Representative commodities. The representative commodities in Crop Group 5 are broccoli or cauliflower, cabbage, and mustard greens. EPA proposes the following representative commodities for new Crop Group 5-14: Broccoli or cauliflower, and cabbage. These commodities are the same representative commodities as in Crop Group 5, except for mustard greens. EPA proposes to move those commodities currently represented by mustard greens to new Crop Group 4-14; therefore, mustard greens is not proposed as a representative commodity for new Crop Group 5-14. All other representative commodities are the same as those currently representing Crop Group 5, and are proposed to represent new Crop Group 5-14 group members because the proposed representative commodities are the most likely to: Contain the highest residues (whether raw or processed); be major in terms of production and consumption; and be similar in morphology, growth habit, pest problems and edible portion, and subject to similar processing as the related commodities within a group or subgroup. These representative commodities account for >99% of the harvested acres for the members of this amended crop group, and are the most widely grown Brassica head and stem commodities in the United States, with the largest acreages and geographical distribution. The representative commodities are based on similarities in its vegetable structures, exposure to residues, and cultural practices and geographical locations, as well as their high production (both acres and yield) and consumption. A comparison of established tolerances on Crop subgroup 5A also supports that residue levels will be similar between members of the crop group.

3. No subgroups in new Crop Group 5-14. EPA proposes to not include subgroups in new Crop Group 5-14 given the small number of commodities.

C. Crop Group 22: Stalk, Stem, and Leaf Petiole Group

EPA is proposing to establish a new crop group, entitled Stalk, Stem, and Leaf Petiole Crop Group 22.

1. Commodities. EPA proposes to include the following 19 commodities in Crop Group 22: Agave, Agave spp.; aloe vera, Aloe vera (L.) Burm. f.; asparagus, Asparagus officinalis L; bamboo shoots, Arundinaria spp.; Bambusa spp., Chimonobambusa spp.; Dendrocalamus spp., Fargesia spp.; Gigantochloa spp., Nastus elatus; Phyllostachys spp.; Thyrsostachys spp.; cardoon, Cynara cardunculus L.; celery, Apium graveolens var. dulce (Mill.) Pers.; celery, Chinese, Apium graveolens L. var. secalinum (Alef.) Mansf.; Celtuce, Lactuca sativa var. angustana L.H. Bailey; fennel, Florence, fresh leaves and stalk, Foeniculum vulgare Mill. subsp. vulgare var. azoricum (Mill.) Thell.; fern, edible, fiddlehead; Fuki, Petasites japonicus (Siebold & Zucc.) Maxim.; kale, sea, Crambe maritima L.; Kohlrabi, Brassica oleracea L.var gongylodes L.; palm hearts, various species; Prickly pear, pads, Opuntia ficus-indica (L.) Mill., Opuntia spp.; Prickly pear, Texas, pads, Opuntia engelmannii Salm-Dyck ex Engelm. var. lindheimeri (Engelm.) B. D. Parfitt & Pinkav; rhubarb, Rheum x hybridum Murray; Udo, Aralia cordata Thunb.; and Zuiki, Colocasia gigantea (Blume) Hook. f. Also included are cultivars, varieties, and hybrids of these commodities.

The 19 members of the new proposed Stalk, Stem and Leaf Petiole Crop Group 22 are proposed based on similarities of the morphology of the stalk, stem, and leaf petiole vegetables; the cultural practices; the edible food and livestock feed portions; the plant exposure to pesticide residue levels; the geographical locations; the manner of processing; the food uses; and the established tolerances for the commodities. Additionally, the proposal of a separate new Stalk, Stem and Leaf Petioles Crop Group 22 will be similar to the Codex stalk and stem group.

As previously discussed, the new Crop Group 22 is proposed to include certain commodities currently in Crop Group 4, Leafy Vegetable, except Brassica (those in subgroup 4B, with the exception of Swiss chard). Additionally, kohlrabi, which is currently a member of Crop Group 5, Brassica (Cole) Leafy Vegetables Crop is proposed to be included in Crop Group 22. The reasons for these two proposed changes are discussed in Units III A.2. and III B.2.

2. Representative commodities. EPA proposes two representative commodities for new Stalk, Stem, and Leaf Petiole Crop Group 22: Asparagus and Celery.

The proposed representative commodities, asparagus and celery, were chosen because they account for >98% of the harvested acres and production for the proposed members of this group. They are the two most widely grown stalk, stem, and leaf petiole crops in the United States, with both the largest acreages and geographical distribution. The selection of representative commodities is based on a representative commodity that is most likely to: Contain the highest residues (whether raw or processed); be major in terms of production and consumption; and be similar in morphology, growth habit, pest problems and edible portion, and subject to similar processing as the related commodities within a group or subgroup.

3. Crop subgroups. EPA proposes new Stalk, Stem, and Leaf Petiole Crop Group 22 to have two crop subgroups:

i. Stalk and stem vegetable subgroup 22A. (Representative commodity—Asparagus). Twelve commodities are proposed for this subgroup: Agave; aloe vera; asparagus; bamboo shoots; Celtuce; fennel, Florence, fresh leaves and stalk; fern, edible; kale, sea; Kohlrabi; palm hearts; Prickly pear, pads; and Prickly pear, Texas, pads. Also included are cultivars, varieties, and hybrids of these commodities.

ii. Leaf petiole vegetable subgroup 22B. (Representative commodity—Celery). Seven commodities are proposed for subgroup: Cardoon; celery; celery, Chinese; Fuki; rhubarb; Udo; and Zuiki. Also included are cultivars, varieties, and hybrids of these commodities.

Comparisons of established tolerances on the commodities proposed for new Stalk and stem vegetable subgroup 22A and new Leaf petiole vegetable subgroup 22B support that residue levels will be similar between members of the crop group. Comparison of tolerances for the individual members of each subgroup also supports that these two representative commodities will support the crop subgroups.

4. Commodity definitions. In conjunction with new Crop Group 22, EPA proposes two new commodity definitions for fern, edible and palm hearts to be added to § 180.1(g), as specified in the proposed regulatory text. These commodity definitions are being proposed in order to easily distinguish and define the various varieties of edible ferns and palm hearts, respectively.

D. Crop Group 23: Tropical and Subtropical Fruit, Edible Peel Group

EPA is proposing to establish a new crop group, entitled Tropical and Subtropical Fruit, Edible Peel, Crop Group 23.

1. Commodities. EPA proposes to include the following 108 commodities in new Group 23: Açaí, Euterpe oleracea Mart.; Acerola, Malpighia emarginata DC.; African plum, Vitex doniana Sweet; Agritos, Berberis trifoliolata Moric.; Almondette, Buchanania lanzan Spreng.; Ambarella, Spondias dulcis Sol. ex Parkinson; Apak palm, Brahea dulcis (Kunth) Mart.; Appleberry, Billardiera scandens Sm.; Arazá, Eugenia stipitata McVaugh; Arbutus berry, Arbutus unedo L.; Babaco, Vasconcellea x heilbornii (V. M. Badillo) V. M. Badillo; Bacaba palm, Oenocarpus bacaba Mart.; Bacaba-de-leque, Oenocarpus distichus Mart.; Bayberry, Red, Morella rubra Lour.; Bignay, Antidesma bunius (L.) Spreng.; Bilimbi, Averrhoa bilimbi L.; Borojó, Borojoa patinoi Cuatrec.; Breadnut, Brosimum alicastrum Sw.; Cabeluda, Plinia glomerata (O. Berg) Amshoff; Cajou, fruit, Anacardium giganteum Hance ex Engl.; Cambucá, Marlierea edulis Nied.; Carandas-plum, Carissa edulis Vahl; Carob, Ceratonia siliqua L.; Cashew apple, Anacardium occidentale L.; Ceylon iron wood, Manilkara hexandra (Roxb.) Dubard; Ceylon olive, Elaeocarpus serratus L.; Cherry-of-the-Rio-Grande, Eugenia aggregata (Vell.) Kiaersk.; Chinese olive, black, Canarium tramdenum C. D. Dai & Yakovlev; Chinese olive, white, Canarium album (Lour.) Raeusch.; Chirauli-nut, Buchanania latifolia Roxb.; Ciruela verde, Bunchosia armeniaca (Cav.) DC.; Cocoplum, Chrysobalanus icaco L.; date, Phoenix dactylifera L.; Davidson's plum, Davidsonia pruriens F. Muell.; Desert-date, Balanites aegyptiacus (L.) Delile; Doum palm coconut, Hyphaene thebaica (L.) Mart.; False sandalwood, Ximenia americana L.; Feijoa, Acca sellowiana (O. Berg) Burret; fig, Ficus carica L.; Fragrant manjack, Cordia dichotoma G. Forst.; Gooseberry, abyssinian, Dovyalis abyssinica (A. Rich.) Warb.; Gooseberry, Ceylon, Dovyalis hebecarpa (Gardner) Warb.; Gooseberry, Indian, Phyllanthus emblica L.; Gooseberry, otaheite, Phyllanthus acidus (L.) Skeels; Governor's plum, Flacourtia indica (Burm. F.) Merr.; Grumichama, Eugenia brasiliensis Lam; Guabiroba, Campomanesia xanthocarpa O. Berg; Guava, Psidium guajava L.; Guava berry, Myrciaria floribunda (H. West ex Willd.) O. Berg; Guava, Brazilian, Psidium guineense Sw.; Guava, cattley, Psidium cattleianum Sabine; Guava, Costa Rican, Psidium friedrichsthalianum (O. Berg) Nied.; Guava, para, Psidium acutangulum DC.; Guava, purple strawberry, Psidium cattleianum Sabine var. cattleianum; Guava, strawberry, Psidium cattleianum Sabine var. littorale (Raddi) Fosberg; Guava, yellow strawberry, Psidium cattleianum Sabine var. cattleianum forma lucidum O. Deg.; Guayabillo, Psidium sartorianum (O. Berg) Nied.; Illawarra plum, Podocarpus elatus R. Br. Ex Endl.; Imbé, Garcinia livingstonei T. Anderson; Imbu, Spondias tuberosa Arruda ex Kost.; Indian-plum, Flacourtia jangomas (Lour.) basionym); Jaboticaba, Myrciaria cauliflora (Mart.) O. Berg; Jamaica-cherry, Muntingia calabura L.; Jambolan, Syzygium cumini (L.) Skeels; Jelly palm, Butia capitata (Mart.) Becc.; Jujube, Indian, Ziziphus mauritiana Lam.; Kaffir-plum, Harpephyllum caffrum Bernh. Ex C. Krauss; Kakadu plum, Terminalia latipes Benth. subsp. psilocarpa Pedley; Kapundung, Baccaurea racemosa (Reinw.) Mull. Arg.; Karanda, Carissa carandas L.; Kwai muk, Artocarpus hypargyreus Hance ex Benth.; Lemon aspen, Acronychia acidula F. Muell; Mangaba, Hancornia speciosa Gomes; Marian plum, Bouea macrophylla Griff.; Mombin, malayan, Spondias pinnata (J. Koenig ex L. f.) Kurz; Mombin, purple, Spondias purpurea L.; Mombin, yellow, Spondias mombin L.; Monkeyfruit, Artocarpus lacucha Buch.-Ham.; Monos plum, Pseudanamomis umbellulifera (Kunth) Kausel; Mountain cherry, Bunchosia cornifolia Kunth; Nance, Byrsonima crassifolia (L.) Kunth; Natal plum, Carissa macrocarpa (Eckl.) A. DC; Noni, Morinda citrifolia L.; Olive, Olea europaea L. subsp. europaea; papaya, mountain, Vasconcellea pubescens A. DC.; Patauá, Oenocarpus bataua Mart.; Peach palm, fruit, Bactris gasipaes Kunth var. gasipaes; persimmon, black, Diospyros texana Scheele; persimmon, Japanese, Diospyros kaki Thunb.; Pitomba, Eugenia luschnathiana Klotzsch ex O. Berg; Plum-of-Martinique, Flacourtia inermis Roxb.; Pomerac, Syzygium malaccense (L.) Merr. & L.M. Perry; Rambai, Baccaurea motleyana (Mull. Arg.) Mull. Arg.; Rose apple, Syzygium jambos (L.) Alston; Rukam, Flacourtia rukam Zoll. & Moritizi; Rumberry, Myrciaria dubia (Kunth) McVaugh, (Myrtaceae); Sea grape, Coccoloba uvifera (L.) L.; Sentul, Sandoricum koetjape (Burm. F.) Merr.; Sete-capotes, Campomanesia guazumifolia (Cambess.) O. Berg; Silver aspen, Acronychia wilcoxian, (F. Muell.) T.G. Hartley; Starfruit, Averrhoa carambola L; Surinam cherry, Eugenia uniflora L.; Tamarind, Tamarindus indica L.; Uvalha, Eugenia pyriformis Cambess; Water apple, Syzygium aqueum (Burm. F.) Alston; Water pear, Syzygium guineense (Willd.) DC.; Water berry, Syzygium cordatum Hochst. Ex C. Krauss; and Wax jambu, Syzygium samarangense (Blume) Merr. & L.M. Perry. Also included are cultivars, varieties, and hybrids of these commodities.

The commodities proposed for new Crop Group 23 are based on similarities in fruit size; peel (edible for all commodities); cultural practices; geographical distribution; lack of animal feed items; tolerance levels of established tolerances; and pest problems. The commodities chosen also further the goal of international harmonization of tolerances and MRLs, through coordinating the U.S. crop group amendments with efforts to amend the Codex crop groups.

2. Representative commodities. EPA proposes four representative commodities for Tropical and Subtropical Fruit, Edible Peel, Crop Group 23: Olive, Fig, Guava, and Date.

The proposed representative commodities were chosen because they account for >95% of the harvested U.S. acres for the members of the proposed Crop Group 23. The selection of representative commodities is based on a representative commodity that is most likely to: Contain the highest residues (whether raw or processed); be major in terms of production and consumption; and be similar in morphology, growth habit, pest problems and edible portion, and subject to similar processing as the related commodities within a group or subgroup. Comparison of the tolerances established for the representative commodities support that residue levels will adequately cover the wide number of commodities.

3. Crop subgroups. EPA proposes to create three crop subgroups for Tropical and Subtropical Fruit, Edible Peel Crop Group 23:

i. Small fruit, edible peel subgroup 23A. (Representative commodity—Olive). EPA is proposing 56 commodities for new subgroup 23A: Acerola; African plum; Agritos; Almondette; Appleberry; Arbutus berry; Bayberry, red; Bignay; Breadnut; Cabeluda; Carandas-plum; Ceylon iron wood; Ceylon olive; Cherry-of-the-Rio-Grande; Chinese olive, black; Chinese olive, white; Chirauli-nut; Cocoplum; Desert-date; False sandalwood; Fragant manjack; gooseberry, abyssinian; gooseberry, Ceylon; gooseberry, otaheite; Governor's plum; Grumichama; Guabiroba; guava berry; guava, Brazilian; guava, Costa Rican; Guayabillo; Illawarra plum; Indian-plum; Jamaica-cherry; Jambolan; Kaffir-plum; Kakadu plum; Kapundung; Karnada; Lemon aspen; Mombin, yellow; Monos plum; Mountain cherry; olive; persimmon, black; Pitomba; Plum-of-Martinique; Rukam; Rumberry; Sea grape; Sete-capotes; Silver aspen; Water apple; Water pear; Water berry; and Wax jambu. Also included are cultivars, varieties and hybrids of these commodities.

ii. Medium to large fruit, edible peel subgroup 23B. (Representative commodities—Fig and Guava). EPA is proposing 43 commodities for new subgroup 23B: Ambarella; Arazá; Babaco; Bilimbi; Borojó; Cajou, fruit; Cambucá; Carob; Cashew apple; Ciruela verde; Davidson's plum; Feijoa; Fig; gooseberry, Indian; guava; guava, cattley; guava, para; guava, purple strawberry; guava, strawberry; guava, yellow strawberry; Imbé; Imbu; Jaboticaba; Jujube, Indian; Kwai muk; Mangaba; Marian plum; Mombin, malayan; Mombin, purple; Monkeyfruit; Nance; Natal plum; Noni; papaya, mountain; persimmon, Japanese; Pomerac; Rambai; Rose apple; Sentul; starfruit; Surinam cherry; Tamarind; and Uvalha. Also included are cultivars, varieties and hybrids of these commodities.

iii. Palm fruit, edible peel subgroup 23C. (Representative commodity—Date). EPA is proposing nine commodities for new subgroup 23C: Açaí; Apak palm; Bacaba palm; Bacaba-de-leque; date; Doum palm coconut; Jelly palm; Patauá; and Peach palm, fruit. Also included are cultivars, varieties and hybrids of these commodities.

The creation of these subgroups and the choice of representative commodity designations are based on sorting commodities into fruit size, small versus medium to large fruit, based on the surface area to mass (volume) ratio, with the addition of a palm subgroup in order to determine the proposed subgrouping scheme. Small fruit were distinguished from medium and large fruit depending on whether the fruit's surface area to mass (volume) ratio was greater or less than 1.5:1. Palm commodities are proposed to be classified in a separate subgroup based on the botanical similarity of trees in the family Arecaceae (alt. Palmae). Palm fruit is produced in clusters that are partially exposed to the elements, and fruit is located considerably higher on palm trees than other tropical and subtropical fruits; therefore, similar use patterns of pesticide applications are expected to occur and similar residue patterns can be expected within the palm group. EPA has determined that residue data on the designated representative crops will provide adequate information on residue levels in crops and subgroups.

E. Crop Group 24: Tropical and Subtropical Fruit, Inedible Peel Group

EPA is proposing to establish a new crop group entitled Tropical and Subtropical Fruit, Inedible Peel, Crop Group 24:

1. Commodities. EPA proposes to include the following 104 commodities in new Crop Group 24: Abiu, Pouteria caimito (Ruiz & Pav.) Radlk; Aisen, Boscia senegalensis (Pers.) Lam.; Akee apple, Blighia sapida K.D. Koenig; Atemoya, Annona cherimola Mill. X A. squamosa L.; avocado, Persea americana Mill.; avocado, Guatemalan, Persea americana Mill. var. guatemalensis; avocado, Mexican, Persea americana Mill. var. drymifolia (Schltdl. & Cham.) S. F. Blak; avocado, West Indian, Persea americana var. americana; Bacury, Platonia insignis Mart.; Bael fruit, Aegle marmelos (L.) Corrêa; banana, Musa spp. and hybrids; banana, dwarf, Musa hybrids; Musa acuminata Colla; Binjai, Mangifera caesia Jack; Biriba, Annona mucosa Jacq.; Breadfruit, Artocarpus altilis (Parkinson) Fosberg; Burmese grape, Baccaurea ramiflora Lour.; Canistel, Pouteria campechiana (Kunth) Baehni; Cat's-eyes, Dimocarpus longan Lour. subsp. malesianus Leenh.; Champedak, Artocarpus integer (Thunb.) Merr.; Cherimoya, Annona cherimola Mill.; Cupuacú, Theobroma grandiflorum (Willd. Ex Spreng.) K. Schum.; Custard apple, Annona reticulata L.; Dragon fruit, Hylocereus undatus (Haw.) Britton & Rose; Durian, Durio zibethinus L.; Elephant-apple, Limonia acidissima L.; Etambe, Mangifera zeylanica (Blume) Hook. F.; Granadilla, Passiflora ligularis Juss.; Granadilla, giant, Passiflora quadrangularis L.; Ilama, Annona macroprophyllata Donn. Sm.; Ingá, Inga vera Willd. subsp. affinis (DC.) T. D. Penn.; Jackfruit, Artocarpus heterophyllus Lam.; Jatobá, Hymenaea courbaril L.; Karuka, Pandanus julianettii Martelli; Kei apple, Dovyalis caffra (Hook. F. & Harv.) Warb.; Langsat, Lansium domesticum Corrêa; Lanjut, Mangifera lagenifera Griff.; Longan, Dimocarpus longan Lour.; Lucuma, Pouteria lucuma (Ruiz & Pav.) Kuntze; Lychee, Litchi chinensis Sonn.; Mabolo, Diospyros blancoi A. DC.; Madras-thorn, Pithecellobium dulce (Roxb.) Benth.; Mammy-apple, Mammea americana L.; Manduro, Balanites maughamii Sprague; mango, Mangifera indica L.; mango, horse, Mangifera foetida Lour.; mango, Saipan, Mangifera odorata Griff.; Mangosteen, Garcinia mangostana L.; Marang, Artocarpus odoratissimus Blanco; Marmaladebox, Genipa americana L.; Matisia, Matisia cordata Humb. & Bonpl.; Mesquite, Prosopis juliflora (Sw.) DC.; Mongongo, fruit, Schinziophyton rautanenii (Schinz) Radcl.-Sm; Monkey-bread-tree, Adansonia digitata L.; Monstera, Monstera deliciosa Liebm.; Nicobar-breadfruit, Pandanus leram Jones ex Fontana; Paho, Mangifera altissima Blanco; Pandanus, Pandanus utilis Bory; papaya, Carica papaya L.; passionflower, winged-stem, Passiflora alata Curtis; passionfruit, Passiflora edulis Sims; passionfruit, banana, Passiflora tripartita var. mollissima (Kunth) Holm-Niels. & P. Jorg.; passionfruit, purple, Passiflora edulis Sims forma edulis; passionfruit, yellow, Passiflora edulis Sims forma flavicarpa O. Deg.; Pawpaw, common, Asimina triloba (L.) Dunal; Pawpaw, small-flower, Asimina parviflora (Michx.) Dunal; Pelipisan, Mangifera casturi Kosterm.; Pequi, Caryocar brasiliense Cambess; Pequia, Caryocar villosum (Aubl.) Pers.; persimmon, American, Diospyros virginiana L.; pineapple, Ananas comosus (L.) Merr.; Pitahaya, Hylocereus polyrhizus (F. A. C. Weber) Britton & Rose; Pitaya, Hylocereus spp. including H. megalanthus, H. ocamponis and H. polychizus; Pitaya amarilla, Hylocereus triangularis Britton & Rose; Pitaya roja, Hylocereus ocamponis (Salm-Dyck) Britton & Rose; Pitaya, yellow, Hylocereus megalanthus (K. Schum. ex Vaupel) Ralf Bauer; plantain, Musa paradisiaca L.; pomegranate, Punica granatum L.; Poshte, Annona liebmanniana Baill.; Prickly pear, fruit, Opuntia ficus-indica (L.) Mill., Opuntia spp.; Prickly pear, Texas, fruit, Opuntia engelmannii Salm-Dyck ex Engelm. var. lindheimeri (Engelm.) B. D. Parfitt & Pinkava; Pulasan, Nephelium ramboutan-ake (Labill.) Leenh.; Quandong, Santalum acuminatum (R. Br.) DC.; Rambutan, Nephelium lappaceum L.; Saguaro, Carnegiea gigantea (Engelm.) Britton & Rose; Sapodilla, Manilkara zapota (L.) P. Royen; Sapote, black, Diospyros digyna Jacq.; Sapote, green, Pouteria viridis (Pittier) Cronquist; Sapote, mamey, Pouteria sapota (Jacq.) H.E. Moore & Stearn; Sapote, white, Casimiroa edulis La Llave & Lex; Sataw, Parkia speciosa Hassk.; Satinleaf, Chrysophyllum oliviforme L.; Screw-pine, Pandanus tectorius Parkinson; Sierra Leone-tamarind, Dialium guineense Willd.; Soncoya, Annona purpurea Moc. & Sessé ex Dunal; Soursop, Annona muricata L.; Spanish lime, Melicoccus bijugatus Jacq.; Star apple, Chrysophyllum cainito L.; Sugar apple, Annona squamosa L.; Sun Sapote, Licania platypus (Hemsl.) Fritsch; Tamarind-of-the-Indies, Vangueria madagascariensis J. F. Gmel.; Velvet Tamarind, Dialium indum L.; Wampi, Clausena lansium (Lour.) Skeels; White star apple, Chrysophyllum albidum G. Don; and Wild loquat, Uapaca kirkiana Müll. Arg. Also included are cultivars, varieties, and hybrids of these commodities.

2. Representative commodities. EPA proposes the following commodities as representatives for new Tropical and Subtropical Fruit, Inedible Peel, Crop Group 24: Atemoya or Sugar apple; avocado; pomegranate or banana; Dragon fruit; Prickly pear, fruit; lychee; passionfruit; and pineapple.

These representative commodities will account for approximately 99% of the harvested U.S. acres for the members of the new crop group. The selection of representative commodities is based on a representative commodity that is most likely to: Contain the highest residues (whether raw or processed); be major in terms of production and consumption; and be similar in morphology, growth habit, pest problems and edible portion, and subject to similar processing as the related commodities within a group or subgroup. Comparison of the tolerances established for the representative commodities support that residue levels will adequately cover the wide number of commodities.

3. Crop subgroups. EPA proposes five crop subgroups for new Tropical and Subtropical Fruit, Inedible Peel, Crop Group 24:

i. Small fruit, inedible peel subgroup 24A. (Representative commodity—Lychee). EPA is proposing 18 commodities in new subgroup 24A: Aisen; Bael fruit; Burmese grape; Cat's eyes; Ingá; lychee; Madras-thorn; Manduro; Matisia; Mesquite; Mongongo, fruit; Pawpaw, small-flower; Satinleaf; Sierra Leone-tamarind; Spanish lime; Velvet tamarind; Wampi; and White star apple. Also included are cultivars, varieties and hybrids of these commodities.

ii. Medium to large fruit, smooth, inedible peel subgroup 24B. (Representative commodities—Avocado, plus Pomegranate or Banana). EPA is proposing 42 commodities for new subgroup 24B: Abiu; Akee apple; avocado; avocado, Guatemalan; avocado, Mexican; avocado, West Indian; Bacury; banana; banana, dwarf; Binjai; Canistel; Cupuacú; Etambe; Jatobá; Kei apple; Langstat; Lanjut; Lucuma; Mabolo; mango; mango, horse; mango, Saipan; Mangosteen; Paho; papaya; Pawpaw, common; Pelipisan; Pequi; Pequia; persimmon, American; plantain; pomegranate; Poshte; Quandong; Sapote, black; Sapote, green; Sapote, white; Sataw; Screw-pine; Star apple; Tamarind-of-the-Indies; and Wild loquat. Also included are cultivars, varieties and hybrids of these commodities.

iii. Medium to large fruit, rough or hairy, inedible peel subgroup 24C. (Representative commodities—Pineapple, plus Atemoya or Sugar apple). EPA is proposing 27 commodities for new subgroup 24C: Atemoya; Biriba; breadfruit; Champedak; Cherimoya; Custard apple; Durian; Elephant-apple; Ilama; Jackfruit; Karuka; longan; Mammy-apple; Marmalade-box; Marang; Monkey-bread tree; Nicobar-breadfruit; Pandanus; pineapple; Pulasan; Rambutan; Sapodilla; Sapote, mamey; Soncoya; Soursop; Sugar apple; and Sun sapote. Also included are cultivars, varieties and hybrids of these commodities.

iv. Cactus inedible peel subgroup 24D. (Representative commodities—Dragon fruit and Prickly pear fruit). EPA is proposing nine commodities for new subgroup 24D: Dragon fruit; Pitahaya; Pitaya; Pitaya amarilla; Pitaya roja; Pitaya, yellow; Prickly pear, fruit; Texas prickly pear, fruit; and Saguaro. Also included are cultivars, varieties and hybrids of these commodities.

v. Vine inedible peel subgroup 24E. (Representative commodity—Passionfruit). EPA is proposing eight commodities for new subgroup 24E: Granadilla; Granadilla, giant; Monstera; passionflower, winged-stem; passionfruit; passionfruit, banana; passionfruit, purple; and passionfruit, yellow. Also included are cultivars, varieties and hybrids of these commodities.

The creation of these subgroups and the choice of representative commodity designations are based on similarities between cultural practices, potential residue exposure due to fruit size area, and lack of animal feed items. The proposed subgroup designations are based on fruit size (small versus medium to large fruit), determined via the surface area to mass (volume) ratio, as well as peel texture (rough or hairy, smooth, or cactus), and growth habit (e.g., vine crops).

F. Other Changes

1. Revise § 180.40(e) and (f). EPA believes that § 180.40(f) of the Crop Group Regulations, promulgated in 1983 (Ref. 2), has become outdated and that revisions are needed. Section 180.40(f) addresses the interaction of crop group tolerances with processed food tolerances and meat, milk, and egg tolerances. Under FFDCA section 408, raw food tolerances and exemptions from tolerance apply to processed foods as well; however, separate processed food tolerances are needed if residues may concentrate to levels higher than the raw food tolerance in one or more fractions of the raw food following processing. (21 U.S.C. 346a(a)(2)). This provision in the FFDCA is generally referred to as the flow-through provision because it legally permits residues—or, more accurately, the raw food tolerance—to flow through to processed food. Similarly, residues in a raw crop may make necessary a tolerance in meat, milk, and egg commodities if the crop, or a fraction thereof, is a significant animal feed commodity and the consumption of the treated crop may lead to residues in livestock commodities. (§ 180.3(b)). Section 180.40(f) requires that, if any commodity covered by a crop group is utilized as an animal feed, any needed tolerances or exemptions from tolerance in meat, milk, or egg commodities must be established before the crop group tolerance will be promulgated. Section 180.40(f) also specifies that:

• Representative crops in a crop group include all crops that upon processing may result in a greater concentration of residues in the processed food;

• Processing data will be required before establishing a crop group tolerance; and

• Crop group tolerances will not be established on processed foods prepared from crops covered by crop group tolerances.

When § 180.40(f) was proposed, one commenter criticized it as subject to misinterpretation. The commenter noted that crop groups do not include all crops that are processed as representative commodities and thus the provision may be construed as a “guide for crops for which food or feed additive data will be required.” (Ref. 2). Another commenter asked EPA to reconsider the exclusion on crop group tolerances for processed foods. In response to the first commenter, EPA disagreed that the provision would be misconstrued as limiting processing data requirements to representative commodities. While not disputing that crop groups do not include all commodities subject to processing as representative commodities, the Agency thought the provision did not suggest that processing data was not required on all commodities that are processed. EPA cited the bar on setting group tolerances on processed foods as the basis for this conclusion. Nonetheless, the Agency did note that representative commodities are intended to be representative of “the overall residue picture for the group,” including residues in processed foods. As to the second comment, EPA declined to remove the bar on establishing crop group tolerances for processed foods. EPA concluded that, given the relatively low number of processed food tolerances established each year and the potentially significant differences in processing techniques even for commodities in the same crop group, it would not be appropriate to set processed food group tolerances. However, EPA promised to re-examine this exclusion in the future (Ref. 2).

EPA has now re-examined the requirements of § 180.40(f) in light of 30 years of experience in implementing the 1983 crop groups rule, evaluating residue levels in processed foods; and setting processed food tolerances. Based on this re-examination, EPA has concluded that § 180.40(f) is no longer consistent with Agency practice and fails to provide clear direction to tolerance petitioners.

With regard to consistency with Agency practice, § 180.40(f) is out-of-step with Agency determinations made on what commodities are appropriately considered representative and on whether processed food group tolerances should be set. As noted, § 180.40(f) specifies that “representative crops include all crops in the group that could be processed such that residues may concentrate in processed food and/or feed.” The thinking behind this provision appears to have been that processed food and animal feeds were so unique that residue data on them was needed in all cases to evaluate human exposure to a pesticide under a group tolerance and to determine whether processed food and feed tolerances are needed. In practice, EPA has not found this to be the case. For example, nearly every crop in the Crop Group 15—Cereal Grains is processed into fractions that could result in concentrated residues but EPA only selected a handful of the crops to serve as representative crops. Designating every, or nearly every, crop in a crop group as a representative commodity would have defeated the purpose of having a crop group. The selection of only a few of the cereal grains that are processed as representative crops was based on an analysis on the representativeness of these crops as to both raw and processed commodities. EPA has determined that, as to the commodities in this group, processing data on only a few commodities would be adequate for estimating residue values in all processed foods covered by the crop group tolerance (under FFDCA section 408, raw food tolerances apply to all processed food, including animal feed, derived from that raw food) (Ref. 3). (See 21 U.S.C. 346a(a)(2))

EPA's experience implementing the crop group regulations has also led EPA to question the wisdom of § 180.40(f)'s bar on crop group tolerances for “processed foods prepared from crops covered by [a] group tolerance.” If, as found for the cereal grains group and other more recently established crop groups, processing data on a few commodities are adequate to assess residue levels in processed food and animal feed covered by the crop group tolerance, there is no reason not to consider setting a crop group tolerance for processed food or animal feed, where needed. In fact, outside of the context of the crop group regulations in §§ 180.40 and 180.41, EPA has been setting de facto crop group tolerances for processed foods pursuant to its Residue Chemistry Test Guidelines (Ref. 4) for years. For example, those Guidelines identify the commodity “citrus” as appropriate for use in setting both raw and processed food/feed tolerances. Although this term is not necessarily co-extensive with Crop Group 10-10, Citrus Fruit Group, it does indicate EPA's judgment that processed food/feed tolerances are workable for categories of commodities and not just single commodities.

Additionally, EPA's conclusions in 1983 regarding the relative rarity of the need for processed food tolerances and the uniqueness of food processing techniques have not stood the test of time. Although the number of processed food tolerances is small compared to the number of raw food tolerances, the overall number of processed food tolerances is significant. For example, there are over 250 processed food tolerances established for the processed commodities of just four crops: Almond (hulls); apple (wet and dry pomace and juice); sugar beet (dried pulp, molasses, and refined sugar); and wheat (bran, germ, flour, middlings, milled byproducts, and shorts). Further, EPA's conclusion about the uniqueness of processing techniques has not been borne out by the thousands of processing studies received by EPA. EPA's method of estimating pesticide levels in processed foods is conservative because EPA bases its estimate on the highest residue value found in field trials designed to produce worst-case residue levels. Data from the USDA's Pesticide Data Program (PDP) confirms the conservativeness of EPA's approach. PDP data show that residues in processed foods are usually one to two orders of magnitude below the level estimated by EPA in its exposure assessment and tolerance selection processes.

EPA has not only found § 180.40(f) to be out-of-step with Agency practice, but upon further reflection based upon years of experience, EPA now believes there is substantial merit in the comments made 30 years ago questioning the regulation's clarity. Other than the bar on processed food group tolerances, EPA believes that § 180.40(f) meant to establish three principles. First, the provision was intended to incorporate in the crop group regulations EPA's long-held policy (generally referred to as the “coordination policy”) of not setting tolerances on raw agricultural commodities unless any needed tolerances on processed foods (including animal feeds) and on meat, milk, and/or eggs are in place (or are being simultaneously established) (Ref. 2, p. 29856). Otherwise, raw foods containing legal residues might result, after processing for human or animal consumption or after consumption by livestock, in adulterated commodities subject to seizure.

Second, the provision was intended to indicate that representative commodities would be chosen for crop groups with an eye toward the issue of residue levels in processed foods and in meat, milk, and eggs resulting from animals consuming treated food so that the representative crops would be truly representative of the group. Third, the provision was intended to explain that processing studies and animal feeding studies, where appropriate, would be required on the representative commodities. Unless such studies were submitted when needed, EPA believed it could not determine overall exposure levels resulting from a crop group tolerance and if a crop group tolerance would inadvertently lead to processed food or animal feed that has over tolerance residues. Little of this, however, plainly emerges from the text of § 180.40(f).

Based on this re-examination of § 180.40(f), EPA has concluded that several changes are needed. EPA is proposing to revise § 180.40(f) to more clearly enunciate the three principles originally included in the provision and to update these provisions in line with current practice. For the sake of clarity, the proposed revisions include dividing § 180.40(f) into four paragraphs. In proposed § 180.40(f)(1), EPA is proposing to adopt a statement of its coordination policy similar to that in EPA's Federal Insecticide, Fungicide, and Rodenticide Act (FIFRA) regulations that bars the granting of a FIFRA registration until all needed tolerances have received Agency approval. (See 40 CFR 152.112(g)) EPA is proposing that crop group tolerances not be established until all other “necessary” tolerances have been approved (or are being simultaneously established). Generally, the establishment of a tolerance for one raw commodity makes other tolerances “necessary” if normal processing, handling, production, transportation, or storage of the treated commodity, or consumption of the commodity by livestock, could lead to the presence of a residue in another commodity not covered by a tolerance or exemption. Proposed § 180.40(f)(1) specifies that tolerances in other food forms are considered necessary if:

• A processed form or fraction of a raw food covered by the crop group tolerance may contain residues due to processing that are higher than the crop group tolerance;

• There exist raw commodities derived or produced from commodity covered by the crop group tolerance but the derived raw food is not covered by the crop group tolerance; and

• Commodities, or fractions thereof, that are covered by the crop group tolerance are a significant animal feed item and consumption of the feed item may lead to residues in meat, milk, or eggs.

The reason for the second criteria is that the production of food may result in multiple discrete raw and processed commodities as a crop moves from harvest to market, but the flow-through provision only applies to processed foods. Raw foods that are discrete from the raw commodity specified in the tolerance need a separate tolerance if they contain any residue level (i.e., they are not covered by the flow-through provision). Separate raw forms of the same crop can be created, for example, by drying the crop because not all forms of drying are considered to be “processing,” as that term is used in the FFDCA (Ref. 5). Proposed § 180.40(f)(1) carves out an exception to the first two types of necessary tolerances where there is complete separation between crops grown solely to be sold as a specific raw commodity and crops grown for the purpose of producing a processed food or a separate raw commodity. In these circumstances, no processed food tolerance (or separate raw commodity tolerance) is needed to set the raw food tolerance because production of the commodity for the raw food market will not result in the production of processed foods (or distinct raw commodities).

In new § 180.40(f)(2) EPA is proposing to add express authority to set processed food group tolerances for processed foods, or fractions of foods, produced from foods covered by the crop groups established in § 180.41. Thus, EPA is proposing to delete the language barring the establishment of crop group tolerances for processed foods as currently exists in § 180.40(f). Such processed commodity group tolerances would apply to the types of processed commodities, including both food and feed products, as to which EPA has traditionally set processed food tolerances (e.g., juice, oil, and dried pulp of citrus commodities). Thus, going forward, EPA will be able to replace multiple individual processed commodity tolerances with a single crop group processed commodity tolerance. For example, a crop group tolerance on “Grain, cereal, group 15, bran” would apply to bran from each of the 14 commodities in Crop Group 15.

In new § 180.40(f)(2) EPA is also proposing to set crop group tolerances for discrete raw commodities produced from commodities covered by the crop groups in § 180.41 where these discrete raw commodities are not covered by the crop group. An example of such a discrete “produced” raw food is aspirated grain fractions that are produced during the storage of grain but is neither the raw agricultural commodity “grain” nor a processed food. Once final, EPA would be authorized to set, for example, a crop group tolerance for “Grain, cereal, group 15, aspirated grain fractions.” Further, § 180.40(f)(2) integrates processed food (and “produced” raw commodities) group tolerances into § 180.40 more generally by specifying that these group tolerances are to be governed by several of the provisions in § 180.40 pertaining to raw agricultural commodity crop groups:

• § 180.40(c)—allowing crop group tolerances to be established where tolerances already exist on the representative commodities;

• § 180.40(d)—establishing the representative commodities as the minimum residue chemistry data base;

• § 180.40(e)—requiring that registered patterns of pesticide use be similar for all crops in the group;

• § 180.40(g)—specifying the maximum variation in residue values in representative crops generally permitted for establishing a crop group; and

• § 180.40(h)—providing an alternative for excluding a commodity from a crop group.

Because of these proposed revisions, EPA is also proposing to revise § 180.40(e) to make clear that crop groups may only be established where both the pesticide use patterns in the production of the crops and the food processing steps are similar.

In new § 180.40(f)(3) EPA is proposing to restate EPA's concept of representative commodities to incorporate its revised view that a representative commodity can represent both raw and processed foods covered by the crop group tolerance as well as residues that may result in meat, milk, or eggs from use of covered crops, or fractions thereof, as animal feed.

Finally, in new § 180.40(f)(4) EPA is also proposing to make clear that processing data, data on residues in raw commodities derived or produced from the commodity in the crop group, and animal feeding studies will be required, where appropriate. Processing data are generally required if a raw commodity is processed and residues may concentrate in one or more of the processed fractions. EPA expects that processing data on the representative commodities will generally be sufficient for establishing processed commodity group tolerances but, as with raw agricultural commodity crop groups, may require additional processing data where circumstances warrant. Animal studies are required if the raw commodity or any of its processed fractions are a significant animal feed commodity.

2. Revise Crop Groups 16, 17, and 18 to clarify that separate group tolerances may be set on forage, fodder, straw, and hay. Crop groups 16, 17, and 18 cover animal feeds (forage, fodder, straw, and/or hay) for various grains, grasses, and non-grass/non-grain crops. EPA's experience in administering these crop groups has shown that, for some pesticides, there may be significant differences between residue levels of forage, fodder, stover, straw, and/or hay for the covered crops even though the residue levels in each of these animal feeds are similar for the various crops covered. For example, with Crop Group 16, residue levels in forage and fodder of corn and wheat may be very different than residue levels in straw of corn and wheat despite a similarity between residue levels in corn and wheat for each of the these animal feed commodities individually (i.e., residue levels in forage of corn and wheat are similar, residue levels in fodder of corn and wheat are similar, etc.). In these circumstances, EPA believes that enforcement can be more efficient and dietary exposure assessments more precise if separate group tolerances can be set on the animal feeds covered by the group tolerance. Accordingly, EPA is proposing to amend each of these crop groups to make clear that separate crop groups can be set for one or more of the animal feeds in the group if there are differences between the residue levels in the animal feed commodities but residue levels are similar for the individual commodities across the covered crops.

3. Revise broccoli commodity definition. EPA proposes to revise the commodity definition for broccoli in § 180.1(g) to correct the spelling for gai lon, which is currently written as “gia lon.”

4. Revise sugar apple commodity definition. EPA proposes to revise the commodity definition for sugar apple in § 180.1(g) to update the scientific name for sugar apple as well as to remove the remove sweetsop and anon from the definition.

IV. References

The following is a listing of the documents that are specifically referenced in this document. The docket includes these documents and other information considered by EPA, including documents that are referenced within the documents that are included in the docket, even if the referenced document is not physically located in the docket. For assistance in locating these other documents, please consult the person listed under FOR FURTHER INFORMATION CONTACT.

1. EPA. Pesticide Tolerance Crop Grouping Program; Proposed Expansion; Proposed Rule. Federal Register (77 FR 28920, May 23, 2007) (FRL-8126-1).

2. EPA. Crop Grouping: Amendment to Tests on the Amount of Residue Remaining in Minor Crops; Final Rule. Federal Register (48 FR 29855, June 29, 1983).

3. EPA. Bernard A. Schneider. Selection of Representative Commodities and Processed Commodities. July 24, 2014. Docket ID number EPA-HQ-OPP-2006-0766.

4. EPA. Residue Chemistry Test Guidelines. OPPTS 860.1520, Processed Food/Feed. August 1996.

5. EPA. Pesticides; Status of Dried Commodities as Raw Agricultural Commodities; Notice. Federal Register (61 FR 2386, January 25, 1996) (FRL-4992-4).

6. EPA. Pesticide Tolerance Crop Grouping Program; Proposed Expansion; Proposed Rule. Federal Register (77 FR 28920, May 23, 2007) (FRL-8126-1).

7. EPA. Pesticide Tolerance Crop Grouping Program; Final Rule. Federal Register (72 FR 69150, December 7, 2007) (FRL-8343-1).

V. Statutory and Executive Order Reviews

A. Executive Order 12866: Regulatory Planning and Review and Executive Order 13563: Improving Regulation and Regulatory Review

This action is not a “significant regulatory action” under the terms of Executive Order 12866 (58 FR 51735, October 4, 1993) and is therefore not subject to review under Executive Orders 12866 and 13563 (76 FR 3821, January 21, 2011).

EPA prepared an analysis of the potential costs and benefits associated with this action in the first proposed rule of this series of updates (Ref. 6). This analysis is contained in “Economic Analysis Proposed Expansion of Crop Grouping Program.” A copy of the analysis is available in the docket. Because the costs and benefits of each update to the crop grouping rule are essentially the same, EPA believes the May 23, 2007 economic analysis continues to be applicable here and is summarizing it in this unit.

This is a burden-reducing regulation. Crop grouping has saved money by permitting the results of pesticide exposure studies for one crop to be applied to other, similar crops. This regulation would expand certain existing crop groups and add new crop groups.

The primary beneficiaries of the regulation are minor crop producers and consumers. Specialty crop producers will benefit because lower registration costs will encourage manufacturers to register more pesticides on minor crops, providing these growers with additional pesticide options. The greater availability of pesticides for use in the United States as well as increased coverage of tolerances to imported commodities may result in a larger supply of imported and domestically produced specialty produce at potentially lower costs benefiting consumers. Secondary beneficiaries are pesticide registrants, who benefit because expanded markets for pesticides will lead to increased sales. IR-4 and EPA, which are publicly funded Federal Government entities, will more efficiently use resources as a result of the rule.

EPA will conserve resources if, as expected, new or expanded crop groups result in fewer emergency pesticide use requests from specialty crop growers. Further, new and expanded crop groups will likely reduce the number of separate risk assessments and tolerance rulemakings that EPA will have to conduct. The public will further benefit from the increased international harmonization of crop classification and nomenclature, harmonized commodity import and export standards, and increased potential for resource sharing between EPA and other pesticide regulatory agencies. Revisions to the crop grouping program will result in no appreciable costs or negative impacts to consumers, specialty crop producers, and pesticide registrants.

The benefits of this action can be shown through the example of the impact of changes to Crop Group 3 in a prior rulemaking (Ref. 7). That rulemaking established Bulb Vegetable Crop Group 3-07, which expanded upon the related Crop Group 3, Bulb Vegetables from 7 to 25 crops, an increase of 18 from the original crop group. Prior to the establishment of the expanded crop group, adding tolerances for the 18 crops would have required a minimum of 18 field trials at a cost of approximately $5.4 million (assuming $300,000 per field trial). However, after promulgation of the new group, these 18 new crops could obtain pesticide tolerances under a Crop Group 3-07 tolerance with no field trials in addition to those required on the representative commodities (which did not change with the expansion of the group). Fewer field trials mean a greater likelihood that these commodities will obtain tolerance coverage under the FFDCA, aiding growers and reducing the costs of both the IR-4 data development process and the EPA review process, all while maintaining the protectiveness of the tolerance regulatory scheme.

B. Paperwork Reduction Act (PRA)

This action does not impose any new information collection requirements that would require additional review or approval by OMB under the provisions of PRA, 44 U.S.C. 3501 et seq. However, this action is expected to reduce mandatory paperwork due to a reduction in required studies. This action will also have the effect of reducing the number of residue chemistry studies because fewer representative crops would need to be tested under a crop grouping scheme, than it would otherwise be required.

C. Regulatory Flexibility Act (RFA)

Pursuant to RFA section 605(b), 5 U.S.C. 601 et seq., I hereby certify that this proposed rule will not have a significant adverse economic impact on a substantial number of small entities. This proposed rule does not have any direct adverse impacts on small businesses, small non-profit organizations, or small local governments.

For the purpose of assessing the impacts of this proposed rule on small entities, a small entity is defined as:

1. A small business as defined by the Small Business Administration's (SBA) regulations at 13 CFR 121.201.

2. A small governmental jurisdiction that is a government of a city, county, town, school district or special district with a population of less than 50,000.

3. A small organization that is any not-for-profit enterprise which is independently owned and operated and is not dominant in its field.

In determining whether a rule has a significant economic impact on a substantial number of small entities, the impact of concern is any significant adverse economic impact on small entities, since the primary purpose of the regulatory flexibility analyses is to identify and address regulatory alternatives “which minimize any significant economic impact of the proposed rule on small entities” (5 U.S.C. 603 and 604). Thus, an agency may certify that a rule will not have a significant economic impact on a substantial number of small entities if the rule relieves regulatory burden or otherwise has a positive economic effect on all of the small entities subject to the rule.

This proposed action provides regulatory relief and regulatory flexibility. The new crop groups ease the process for pesticide manufacturers to obtain pesticide tolerances on greater numbers of crops. Pesticides will be more widely available to growers for use on crops, particularly specialty crops. This proposed action is not expected to have any adverse impact on small businesses.

D. Unfunded Mandates Reform Act (UMRA)

EPA has determined that this action does not contain a Federal mandate that may result in expenditures of $100 million or more for State, local, and tribal governments, in the aggregate, or the private sector in any 1 year. Accordingly, this action is not subject to the requirements of UMRA sections 202, 203, 204, and 205, 2 U.S.C. 1501 et seq.

E. Executive Order 13132: Federalism

Pursuant to Executive Order 13132, 64 FR 43255, August 10, 1999, EPA has determined that this action does not have federalism implications, because it will not have substantial direct effects on the States, on the relationship between the national government and the States, or on the distribution of power and responsibilities among the various levels of government, as specified in the Executive Order. Thus, Executive Order 13132 does not apply to this action.

F. Executive Order 13175: Consultation and Coordination With Indian Tribal Governments

As required by Executive Order 13175, 65 FR 67249, November 9, 2000, EPA has determined that this action does not have tribal implications because it will not have any effect on tribal governments, on the relationship between the Federal Government and the Indian tribes, or on the distribution of power and responsibilities between the Federal Government and Indian tribes, as specified in the Executive order. Thus, Executive Order 13175 does not apply to this action.

G. Executive Order 13045: Protection of Children From Environmental Health Risks and Safety Risks

Executive Order 13045, 62 FR 19885, April 23, 1997 does not apply because this action is not designated as an economically significant regulatory action as defined by Executive Order 12866 (see Unit V.A.), nor does it establish an environmental standard, or otherwise have a disproportionate effect on children.

H. Executive Order 13211: Actions That Significantly Affect Energy Supply, Distribution, or Use

This action is not a “significant energy action” as defined in Executive Order 13211, 66 FR 28355, May 22, 2001 because it is not designated as an regulatory action as defined by Executive Order 12866 (see Unit V.A.), nor is it likely to have any adverse effect on the supply, distribution, or use of energy.

I. National Technology Transfer and Advancement Act (NTTAA)

Section 12(d) of NTTAA, 15 U.S.C. 272 note, directs EPA to use voluntary consensus standards in its regulatory activities unless to do so would be inconsistent with applicable law or impractical. Voluntary consensus standards are technical standards (e.g., materials specifications, test methods, and sampling procedures) that are developed or adopted by voluntary consensus standards bodies. This action does not impose any technical standards that would require EPA to consider the use of any voluntary consensus standards.

J. Executive Order 12898: Federal Actions To Address Environmental Justice in Minority Populations and Low-Income Populations

This action does not have an adverse impact on the environmental and health conditions in low-income and minority communities. Therefore, this action does not involve special consideration of environmental justice related issues as specified in Executive Order 12898, 59 FR 7629, February 16, 1994.

List of Subjects in 40 CFR Part 180

Environmental protection, Administrative practice and procedure, Commodities, Pesticides and pests.

Dated: November 3, 2014.
James Jones,
Assistant Administrator, Office of Chemical Safety and Pollution Prevention.

Therefore, it is proposed that 40 CFR chapter I be amended as follows:

PART 180—[AMENDED]

1. The authority citation for part 180 continues to read as follows:

Authority: 21 U.S.C. 321(q), 346a and 371.

2. In § 180.1:

a. Revise the entries for “Broccoli” and “Sugar apple” in the table in paragraph (g).

b. Add entries for “Fern, edible” and “Palm hearts” in alphabetical order to the table in paragraph (g).

The revisions and additions read as follows:

§ 180.1 Definitions and interpretations.

* * * * *

(g) * * *

A | B
| * * * * * * *
Broccoli | Broccoli, Chinese broccoli (gai lon, white flowering broccoli).
| * * * * * * *
Fern, edible | Fern, edible, fiddlehead including: Black lady fern, Deparia japonica (Thunb.) M. Kato; Bracken fern, Pteridium aquilinum (L.) Kuhn; Broad buckler fern, Dryopteris dilatata (Hoffm.) A. Gray; Cinnamon fern, Osmundastrum cinnamomeum (L.) C. Presl; Lady fern, Athyrium filix-femina (L.) Roth ex Mert.; Leather fern, Acrostichum aureum L.; Mother fern, Diplazium proliferum (Lam.) Thouars; Ostrich fern, Matteuccia struthiopteris (L.) Tod.; Vegetable fern, Diplazium esculentum (Retz.) Sw.; Zenmai fern, Osmuda japonica Thunb.
| * * * * * * *
Palm hearts | Palm hearts, various species including: African fan palm, Borassus aethiopum Mart.; Cabbage palm, Euterpe oleracea Mart.; Cabbage palmetto, Sabal palmetto (Walter) Schult. & Schult. f.; Coconut, Cocos nucifera L.; Palmyra palm, Borassus flabellifera L.; Peach Palm, Bactris gasipaes Kunth; Royal palm, Roystonea oleracea (Jacq.) O.F. Cook; Salak palm, Salacca zalacca (Gaertn.) Voss; Saw palmetto, Serenoa repens (W. Bartram) Small; Wine palm, Raphia spp.
| * * * * * * *
Sugar apple | Annona squamosa L. and its hybrid atemoya (Annona cherimola Mill X A. squamosa L.) Also includes true custard apple (Annona reticulata L.).
| * * * * * * *

* * * * *

3. In § 180.40, revise paragraphs (e) and (f) to read as follows:

§ 180.40 Tolerances for crop groups.

* * * * *

(e) Since a group tolerance reflects maximum residues likely to occur on all individual crops within a group, the proposed or registered patterns of use for all crops in the group or subgroup must be similar before a group tolerance is established. The pattern of use consists of the amount of pesticide applied, the number of times applied, the timing of the first application, the interval between applications, and the interval between the last application and harvest. The pattern of use will also include the type of application; for example, soil or foliar application, or application by ground or aerial equipment. Additionally, since a group tolerance reflects maximum residues likely to occur on all individual foods within a group, food processing practices must be similar for all crops in the group or subgroup if the processing practice has the potential to result in residues in a processed commodity at a higher concentration than the raw agricultural commodity.

(f)(1) General. EPA will not establish a crop group for a pesticide unless all tolerances made necessary by the presence of pesticide residues in the crop group commodities have been issued or are being issued simultaneously with the crop group tolerance. For purposes of this paragraph (f)(1):

(i) Necessary tolerances for residues resulting from crop group tolerances include:

(A) Tolerances for processed food, including processed animal feed, to the extent needed under 21 U.S.C. 346a(a)(2).

(B) Tolerances for raw commodities not covered by the crop group tolerance that are derivative of commodities in the group.

(C) Tolerances for meat, milk, or egg products that may contain residues as a result of livestock's consumption of animal feed containing pesticide residues to the extent needed under § 180.6(b).

(ii) Notwithstanding the foregoing, a tolerance is not considered necessary for processed food, derivative raw commodities, or meat, milk, and eggs if the precursor raw commodities are grown solely for sale as a raw commodities and are completely segregated from commodities grown for the purpose of producing processed foods, derivative raw commodities, and commodities, or fractions thereof, that are used as animal feed.

(2) Processed commodity and related raw commodity crop group tolerances. EPA may establish crop group tolerances for processed commodities or fractions of commodities (e.g., bran and flour from the Cereal Grains Group), including processed fractions used as animal feed (e.g., pomace from the Pome Fruit Group), produced from crops in the crop groups in § 180.41. EPA may establish crop group tolerances for raw commodities or fractions of commodities, including fractions used as animal feed, derived from commodities covered by the crop groups in § 180.41 (e.g., aspirated grain dust associated with the Cereal Grains Group). Crop group tolerances on processed foods and derivative raw commodities may be based on data on representative commodities for associated crop group. Paragraphs (c), (d), (e), (g), and (h) of this section apply to group tolerances authorized by this paragraph (f)(2).

(3) Representative crops. Unless indicated otherwise in §§ 180.40 and 180.41, the processed food and feed forms of the representative crops for a crop group are considered to be representative of the processed food and feed forms and any derivative raw commodities not covered by the crop group, that are produced from any of the raw agricultural commodities covered by the crop group tolerance. Additionally, unless indicated otherwise in §§ 180.40 and 180.41, representative commodities for such crop groups are selected taking into consideration whether their use as animal feed will result in residues in or on meat, milk, and/or eggs at a level representative of the residues that would result from use of the other commodities or byproducts in the crop group as an animal feed.

(4) Data. Processing data on representative crops are required prior to establishment of a group tolerance if the processing of the representative commodity has the potential to result in residues in a processed commodity at a higher concentration than in the representative commodity. Residue data are required on raw commodities derived from the crops in the crop group tolerance but not directly covered by the tolerance. Animal feeding studies with a representative crop are required if the representative crop is used as a significant animal feed.

* * * * *

4. In § 180.41:

a. Revise paragraph (b).

b. Redesignate paragraphs (c)(6) through (28) as paragraphs (c)(7) through (29), respectively.

c. Add a new paragraph (c)(6).

d. Redesignate newly redesignated paragraphs (c)(8) through (29) as paragraphs (c)(9) through (30), respectively.

e. Add a new paragraph (c)(8).

f. Revise newly redesignated paragraphs (c)(25)(ii), (c)(26)(ii), and (c)(27)(ii) introductory text.

g. Add paragraphs (c)(31), (32), and (33).

The revisions and additions read as follows:

§ 180.41 Crop group tables.

* * * * *

(b) Commodities not listed are not considered as included in the groups for the purposes of this paragraph (b), and individual tolerances must be established. Miscellaneous commodities intentionally not included in any group include globe artichoke, hops, peanut, and water chestnut.

(c) * * *

(6) Crop Group 4-14. Leafy Vegetable Group.

(i) Representative commodities. Head lettuce, leaf lettuce, mustard greens, and spinach.

(ii) Commodities. The following Table 1 lists all commodities included in Crop Group 4-14.

Table 1—Crop Group 4-14: Leafy Vegetable
Commodities | Related crop subgroup
Amaranth, Chinese (Amaranthus tricolor L.) | 4-14A
Amaranth, leafy (Amaranthus spp.) | 4-14A
Arugula (Eruca sativa Mill.) | 4-14B
Aster, Indian (Kalimeris indica (L.) Sch. Bip.) | 4-14A
Blackjack (Bidens pilosa L.) | 4-14A
Broccoli, Chinese (Brassica oleracea var. alboglabra (L.H. Bailey) Musil) | 4-14B
Broccoli raab (Brassica ruvo L.H. Bailey) | 4-14B
Cabbage, abyssinian (Brassica carinata A. Braun) | 4-14B
Cabbage, seakale (Brassica oleracea L. var. costata DC.) | 4-14B
Cat's whiskers (Cleome gynandra L.) | 4-14A
Cham-chwi (Doellingeria scabra (Thunb.) Nees) | 4-14A
Cham-na-mul (Pimpinella calycina Maxim) | 4-14A
Chervil, fresh leaves (Anthriscus cerefolium (L.) Hoffm.) | 4-14A
Chinese cabbage, bok choy (Brassica rapa subsp. chinensis (L.) Hanelt) | 4-14B
Chipilin (Crotalaria longirostrata Hook & Arn) | 4-14A
Chrysanthemum, garland (Glebionis coronaria (L.) Cass. ex Spach. Glebionis spp.) | 4-14A
Cilantro, fresh leaves (Coriandrum sativum L.) | 4-14A
Collards (Brassica oleracea var. Viridis L.) | 4-14B
Corn salad (Valerianella spp.) | 4-14A
Cosmos (Cosmos caudatus Kunth) | 4-14A
Cress, garden (Lepidium sativum L.) | 4-14B
Cress, upland (Barbarea vulgaris W. T. Aiton) | 4-14B
Dandelion (Taraxacum officinale F.H. Wigg. Aggr.) | 4-14A
Dang-gwi (Angelica gigas) | 4-14A
Dillweed (Anethum graveolens L.) | 4-14A
Dock (Rumex patientia L.) | 4-14A
Dol-nam-mul (Sedum sarmentosum Bunge) | 4-14A
Ebolo (Crassocephalum crepidioides (Benth.) S. Moore) | 4-14A
Endive (Cichorium endivia L. ssp. Endivia) | 4-14A
Escarole (Cichorium endivia L. ssp. Endivia) | 4-14A
Fameflower (Talinum fruticosum (L.) Juss.) | 4-14A
Feather cockscomb (Glinus oppositifolius (L.) Aug. DC.) | 4-14A
Good King Henry (Chenopodium bonus-henricus L.) | 4-14A
Hanover salad (Brassica napus var. Pabularia (DC.) Rchb.) | 4-14B
Huauzontle (Chenopodium berlandieri Moq.) | 4-14A
Jute, leaves (Corchorus spp.) | 4-14A
Kale (Brassica oleracea var. Sabellica L.) | 4-14B
Lettuce, bitter (Launaea cornuta (Hochst. ex Oliv. & Hiern) C. Jeffrey) | 4-14A
Lettuce, head (Lactuca sativa L.; including Lactuca sativa var. capitata L.) | 4-14A
Lettuce, leaf (Lactuca sativa L.; including Lactuca sativa var. longifolia Lam.; Lactuca sativa var. crispa L.) | 4-14A
Maca (Lepidium meyenii Walp.) | 4-14B
Mizuna (Brassica rapa L. subsp. nipposinica (L. H. Bailey) Hanelt) | 4-14B
Mustard greens (Brassica juncea subsp., including Brassica juncea (L.) Czern. subsp. integrifolia (H. West) Thell., Brassica juncea (L.) Czern. var. tsatsai (T. L. Mao) Gladis) | 4-14B
Orach (Atriplex hortensis L.) | 4-14A
Parsley, fresh leaves (Petroselinum crispum (Mill.) Nyman ex A.W. Hill; Petroselinum crispum var. neapolitanum Danert) | 4-14A
Plantain, buckthorn (Plantago lanceolata L.) | 4-14A
Primrose, English (Primula vulgaris Huds.) | 4-14A
Purslane, garden (Portulaca oleracea L.) | 4-14A
Purslane, winter (Claytonia perfoliata Donn ex Willd) | 4-14A
Radicchio (Cichorium intybus L.) | 4-14A
Radish, leaves (Raphanus sativus L. var sativus, including Raphanus sativus L. var. mougri H. W. J. Helm (Raphanus sativus L. var. oleiformis Pers) | 4-14B
Rape greens (Brassica napus L. var. napus, including Brassica rapa subsp. trilocularis (Roxb.) Hanelt; Brassica rapa subsp. dichotoma (Roxb.) Hanelt; Brassica rapa subsp. oleifera Met) | 4-14B
Rocket, wild (Diplotaxis tenuifolia (L.) DC.) | 4-14B
Shepherd's purse (Capsella bursa-pastoris (L.) Medik) | 4-14B
Spinach (Spinacia oleracea L.) | 4-14A
Spinach, malabar (Basella alba L.) | 4-14A
Spinach, New Zealand (Tetragonia tetragonioides (Pall.) Kuntze) | 4-14A
Spinach, tanier (Xanthosoma brasiliense (Desf.) Engl.) | 4-14A
Swiss chard (Beta vulgaris L. subsp. Vulgaris) | 4-14A
Turnip greens (Brassica rapa L. subsp. Rapa) | 4-14B
Violet, Chinese (Asystasia gangetica (L.) T. Anderson) | 4-14A
Watercress (Nasturtium officinale W. T. Aiton) | 4-14B
Cultivars, varieties, and hybrids of these commodities |

(iii) Crop subgroups. The following Table 2 identifies the crop subgroups for Crop Group 4-14, specifies the representative commodities for each subgroup, and lists all the commodities included in each subgroup.

Table 2—Crop Group 4-14: Subgroup Listing
Representative commodities | Commodities
Crop Subgroup 4-14A. Leafy greens subgroup
Head lettuce, leaf lettuce, and spinach | Amaranth, Chinese; amaranth, leafy; aster, Indian; blackjack; cat's whiskers; chervil, fresh leaves; cham-chwi; cham-na-mul; chipilin; chrysanthemum, garland; cilantro, fresh leaves; corn salad; cosmos; dandelion; dang-gwi; dillweed; dock; dol-nam-mul; ebolo; endive; escarole; fameflower; feather cockscomb; good king henry; huauzontle; jute, leaves; lettuce, bitter; lettuce, head; lettuce, leaf; orach; parsley, fresh leaves; plantain, buckhorn; primrose, English; purslane, garden; purslane, winter; radicchio; spinach; spinach, malabar; spinach, New Zealand; spinach, tanier; swiss chard; violet, Chinese; cultivars, varieties, and hybrids of these commodities.
Crop Subgroup 4-14B. Brassica leafy greens subgroup
Mustard greens | Arugula; broccoli raab; broccoli, Chinese; cabbage, abyssinian; cabbage, seakale; Chinese cabbage, bok choy; collards; cress, garden; cress, upland; hanover salad; kale; maca; mizuna; mustard greens; radish, leaves; rape greens; rocket, wild; shepherd's purse; turnip greens; watercress; cultivars, varieties, and hybrids of these commodities.

* * * * *

(8) Crop Group 5-14. Brassica Head and Stem Vegetable Group.

(i) Representative commodities. Broccoli or cauliflower and cabbage.

(ii) Commodities. The following List 1 contains all commodities included in Crop Group 5-14.

List 1—Crop Group 5-14: Brassica Head and Stem Vegetable
Broccoli (Brassica oleracea L. var. italica Plenck).
Brussels sprouts (Brassica oleracea L. var. gemmifera (DC.) Zenker).
Cabbage (Brassica oleracea L. var. capitata L.).
Cabbage, Chinese, napa (Brassica rapa L. subsp. pekinensis (Lour.) Hanelt).
Cauliflower (Brassica oleracea L. var. capitata L.).
Cultivars, varieties, and hybrids of these commodities.

* * * * *

(25) * * *

(ii) Commodities. The commodities included in Crop Group 16 are: Forage, fodder, stover, and straw of all commodities included in the group cereal grains group. EPA may establish separate group tolerances on forage, fodder, hay, stover, or straw, if data on the representative commodities indicate differences in the levels of residues on forage, fodder, stover, or straw.

(26) * * *

(ii) Commodities. The commodities included in Crop Group 17 are: Forage, fodder, stover, and hay of any grass, Gramineae/Poaceae family (either green or cured) except sugarcane and those included in the cereal grains group, that will be fed to or grazed by livestock, all pasture and range grasses and grasses grown for hay or silage. EPA may establish separate group tolerances on forage, fodder, stover, or hay, if data on the representative commodities indicate differences in the levels of residues on forage, fodder, stover, or hay.

(27) * * *

(ii) Commodities. EPA may establish separate group tolerances on forage, fodder, straw, or hay, if data on the representative commodities indicate differences in the levels of residues on forage, fodder, straw, or hay. The following is a list of all the commodities included in Crop Group 18:

* * * * *

(31) Crop Group 22. Stalk, Stem and Leaf Petiole Vegetable Group.

(i) Representative commodities. Asparagus and celery.

(ii) Commodities. The following Table 1 lists all commodities included in Crop Group 22.

Table 1—Crop Group 22: Stalk, Stem and Leaf Petiole Vegetable Group
Commodities | Related crop subgroup
Agave (Agave spp.) | 22A
Aloe vera (Aloe vera (L.) Burm.f. | 22A
Asparagus (Asparagus officinalis L.) | 22A
Bamboo, shoots (Arundinaria spp.; Bambusa spp., Chimonobambusa spp.; Dendrocalamus spp., Fargesia spp.; Gigantochloa spp., Nastus elatus; Phyllostachys spp.; Thyrsostachys spp.) | 22A
Cardoon (Cynara cardunculus L.) | 22B
Celery (Apium graveolens var. dulce (Mill.) Pers.) | 22B
Celery, Chinese (Apium graveolens L. var. secalinum (Alef.) Mansf.) | 22B
Celtuce (Lactuca sativa var. angustana L.H. Bailey) | 22A
Fennel, Florence, fresh leaves and stalk (Foeniculum vulgare Mill. subsp. vulgare var. azoricum (Mill.) Thell.) | 22A
Fern, edible, fiddlehead | 22A
Fuki (Petasites japonicus (Siebold & Zucc.) Maxim.) | 22B
Kale, sea (Crambe maritima L.) | 22A
Kohlrabi (Brassica oleracea L. var gongylodes L.) | 22A
Palm hearts (various species) | 22A
Prickly pear, pads (Opuntia ficus-indica (L.) Mill., Opuntia spp.) | 22A
Prickly pear, Texas, pads (Opuntia engelmannii Salm-Dyck ex Engelm. var. lindheimeri (Engelm.) B. D. Parfitt & Pinkav) | 22A
Rhubarb (Rheum x hybridum Murray) | 22B
Udo (Aralia cordata Thunb.) | 22B
Zuiki (Colocasia gigantea (Blume) Hook. f.) | 22B
Cultivars, varieties, and hybrids of these commodities. |

(iii) Crop subgroups. The following Table 2 identifies the crop subgroups for Crop Group 22, specifies the representative commodities for each subgroup, and lists all the commodities included in each subgroup.

Table 2—Crop Group 22: Subgroup Listing
Representative commodities | Commodities
Crop Subgroup 22A. Stalk and stem vegetable subgroup
Asparagus | Agave; aloe vera; asparagus; bamboo, shoots; celtuce; fennel, florence, fresh leaves and stalk; fern, edible; kale, sea; kohlrabi; palm hearts; prickly pear, pads; prickly pear, Texas, pads; cultivars, varieties, and hybrids of these commodities
Crop Subgroup 22B. Leaf petiole vegetable subgroup
Celery | Cardoon; celery; celery, Chinese; fuki; rhubarb; udo; zuiki; cultivars, varieties, and hybrids of these commodities

(32) Crop Group 23. Tropical and Subtropical Fruit, Edible Peel Group.

(i) Representative commodities. Date, fig, guava, and olive.

(ii) Commodities. The following Table 1 lists all commodities included in Crop Group 23.

Table 1—Crop Group 23: Tropical and Subtropical Fruit, Edible Peel
Commodities | Related crop subgroup
Açaí (Euterpe oleracea Mart.) | 23C
Acerola (Malpighia emarginata DC.) | 23A
African plum (Vitex doniana Sweet) | 23A
Agritos (Berberis trifoliolata Moric.) | 23A
Almondette (Buchanania lanzan Spreng.) | 23A
Ambarella (Spondias dulcis Sol. ex Parkinson) | 23B
Apak palm (Brahea dulcis (Kunth) Mart.) | 23C
Appleberry (Billardiera scandens Sm.) | 23A
Arazá (Eugenia stipitata McVaugh) | 23B
Arbutus berry (Arbutus unedo L.) | 23A
Babaco (Vasconcellea x heilbornii (V. M. Badillo) V. M. Badillo) | 23B
Bacaba palm (Oenocarpus bacaba Mart.) | 23C
Bacaba-de-leque (Oenocarpus distichus Mart.) | 23C
Bayberry, red (Morella rubra Lour.) | 23A
Bignay (Antidesma bunius (L.) Spreng.) | 23A
Bilimbi (Averrhoa bilimbi L.) | 23B
Borojó (Borojoa patinoi Cuatrec.) | 23B
Breadnut (Brosimum alicastrum Sw.) | 23A
Cabeluda (Plinia glomerata (O. Berg) Amshoff) | 23A
Cajou, fruit (Anacardium giganteum Hance ex Engl.) | 23B
Cambucá (Marlierea edulis Nied.) | 23B
Carandas-plum (Carissa edulis Vahl) | 23A
Carob (Ceratonia siliqua L.) | 23B
Cashew apple (Anacardium occidentale L.) | 23B
Ceylon iron wood (Manilkara hexandra (Roxb.) Dubard) | 23A
Ceylon olive (Elaeocarpus serratus L.) | 23A
Cherry-of-the-Rio-Grande (Eugenia aggregata (Vell.) Kiaersk.) | 23A
Chinese olive, black (Canarium tramdenum C. D. Dai & Yakovlev) | 23A
Chinese olive, white (Canarium album (Lour.) Raeusch.) | 23A
Chirauli-nut (Buchanania latifolia Roxb.) | 23A
Ciruela verde (Bunchosia armeniaca (Cav.) DC.) | 23B
Cocoplum (Chrysobalanus icaco L.) | 23A
Date (Phoenix dactylifera L.) | 23C
Davidson's plum (Davidsonia pruriens F. Muell.) | 23B
Desert-date (Balanites aegyptiacus (L.) Delile) | 23A
Doum palm coconut (Hyphaene thebaica (L.) Mart.) | 23C
False sandalwood (Ximenia americana L.) | 23A
Feijoa (Acca sellowiana (O. Berg) Burret) | 23B
Fig (Ficus carica L.) | 23B
Fragrant manjack (Cordia dichotoma G. Forst.) | 23A
Gooseberry, abyssinian (Dovyalis abyssinica (A. Rich.) Warb.) | 23A
Gooseberry, Ceylon (Dovyalis hebecarpa (Gardner) Warb.) | 23A
Gooseberry, Indian (Phyllanthus emblica L.) | 23B
Gooseberry, otaheite (Phyllanthus acidus (L.) Skeels) | 23A
Governor's plum (Flacourtia indica (Burm. F.) Merr.) | 23A
Grumichama (Eugenia brasiliensis Lam) | 23A
Guabiroba (Campomanesia xanthocarpa O. Berg) | 23A
Guava (Psidium guajava L.) | 23B
Guava berry (Myrciaria floribunda (H. West ex Willd.) O. Berg) | 23A
Guava, Brazilian (Psidium guineense Sw.) | 23A
Guava, cattley (Psidium cattleianum Sabine) | 23B
Guava, Costa Rican (Psidium friedrichsthalianum (O. Berg) Nied.) | 23A
Guava, para (Psidium acutangulum DC.) | 23B
Guava, purple strawberry (Psidium cattleianum Sabine var. cattleianum) | 23B
Guava, strawberry (Psidium cattleianum Sabine var. littorale (Raddi) Fosberg) | 23B
Guava, yellow strawberry (Psidium cattleianum Sabine var. cattleianum forma lucidum O. Deg.) | 23B
Guayabillo (Psidium sartorianum (O. Berg) Nied.) | 23A
Illawarra plum (Podocarpus elatus R. Br. Ex Endl.) | 23A
Imbé (Garcinia livingstonei T. Anderson) | 23B
Imbu (Spondias tuberosa Arruda ex Kost.) | 23B
Indian-plum (Flacourtia jangomas (Lour.). basionym) | 23A
Jaboticaba (Myrciaria cauliflora (Mart.) O. Berg) | 23B
Jamaica-cherry (Muntingia calabura L.) | 23A
Jambolan (Syzygium cumini (L.) Skeels) | 23A
Jelly palm (Butia capitata (Mart.) Becc.) | 23C
Jujube, Indian (Ziziphus mauritiana Lam.) | 23B
Kaffir-plum (Harpephyllum caffrum Bernh. Ex C. Krauss) | 23A
Kakadu plum (Terminalia latipes Benth. subsp. psilocarpa Pedley) | 23A
Kapundung (Baccaurea racemosa (Reinw.) Mull. Arg.) | 23A
Karanda (Carissa carandas L.) | 23A
Kwai muk (Artocarpus hypargyreus Hance ex Benth.) | 23B
Lemon aspen (Acronychia acidula F. Muell) | 23A
Mangaba (Hancornia speciosa Gomes) | 23B
Marian plum (Bouea macrophylla Griff.) | 23B
Mombin, malayan (Spondias pinnata (J. Koenig ex L. f.) Kurz) | 23B
Mombin, purple (Spondias purpurea L.) | 23B
Mombin, yellow (Spondias mombin L.) | 23A
Monkeyfruit (Artocarpus lacucha Buch. Ham.) | 23B
Monos plum (Pseudanamomis umbellulifera (Kunth) Kausel) | 23A
Mountain cherry (Bunchosia cornifolia Kunth) | 23A
Nance (Byrsonima crassifolia (L.) Kunth) | 23B
Natal plum (Carissa macrocarpa (Eckl.) A. DC.) | 23B
Noni (Morinda citrifolia L.) | 23B
Olive (Olea europaea L. subsp. europaea) | 23A
Papaya, mountain (Vasconcellea pubescens A. DC.) | 23B
Patauá (Oenocarpus bataua Mart.) | 23C
Peach palm, fruit (Bactris gasipaes Kunth var. gasipaes) | 23C
Persimmon, black (Diospyros texana Scheele) | 23A
Persimmon, Japanese (Diospyros kaki Thunb.) | 23B
Pitomba (Eugenia luschnathiana Klotzsch ex O. Berg) | 23A
Plum-of-Martinique (Flacourtia inermis Roxb.) | 23A
Pomerac (Syzygium malaccense (L.) Merr. & L.M. Perry) | 23B
Rambai (Baccaurea motleyana (Mull. Arg.) Mull. Arg.) | 23B
Rose apple (Syzygium jambos (L.) Alston) | 23B
Rukam (Flacourtia rukam Zoll. & Moritizi) | 23A
Rumberry (Myrciaria dubia (Kunth) Mc Vaugh Myrtaceae) | 23A
Sea grape (Coccoloba uvifera (L.) L.) | 23A
Sentul (Sandoricum koetjape (Burm. F.) Merr.) | 23B
Sete-capotes (Campomanesia guazumifolia (Cambess.) O. Berg) | 23A
Silver aspen (Acronychia wilcoxian (F. Muell.) T.G. Hartley) | 23A
Starfruit ( Averrhoa carambola L.) | 23B
Surinam cherry (Eugenia uniflora L.) | 23B
Tamarind (Tamarindus indica L.) | 23B
Uvalha (Eugenia pyriformis Cambess ) | 23B
Water apple (Syzygium aqueum (Burm. F.) Alston) | 23A
Water pear (Syzygium guineense (Willd.) DC) | 23A
Water berry (Syzygium cordatum Hochst. Ex C. Krauss) | 23A
Wax jambu (Syzygium samarangense (Blume) Merr. & L.M. Perry) | 23A
Cultivars, varieties, and hybrids of these commodities |

(iii) Table. The following Table 2 identifies the crop subgroups for Crop Group 23, specifies the representative commodities for each subgroup, and lists all the commodities included in each subgroup.

Table 2—Crop Group 23: Subgroup Listing
Representative commodities | Commodities
Crop Subgroup 23A. Small fruit, edible peel subgroup
Olive | Acerola; African plum; agritos; almondette; appleberry; arbutus berry; bayberry, red; bignay; breadnut; cabeluda; carandas-plum; Ceylon iron wood; Ceylon olive; cherry-of-the-Rio-Grande; Chinese olive, black; Chinese olive, white; chirauli-nut; cocoplum; desert-date; false sandalwood; fragant manjack; gooseberry, abyssinian; gooseberry, Ceylon; gooseberry, otaheite; governor's plum; grumichama; guabiroba; guava berry; guava, Brazilian; guava, Costa Rican; guayabillo; illawarra plum; Indian-plum; Jamaica-cherry; jambolan; kaffir-plum; kakadu plum; kapundung; karnada; lemon aspen; mombin, yellow; monos plum; mountain cherry; olive; persimmon, black; pitomba; plum-of-martinique; rukam; rumberry; sea grape; sete-capotes; silver aspen; water apple; water pear; water berry; wax jambu; cultivars, varieties, and hybrids of these commodities.
Crop Subgroup 23B. Medium to large fruit, edible peel subgroup
Fig and guava | Ambarella; arazá; babaco; bilimbi; borojó; cajou, fruit; cambucá; carob; cashew apple; ciruela verde; Davidson's plum; feijoa; fig; gooseberry, Indian; guava; guava, cattley; guava, para; guava, purple strawberry; guava, strawberry; guava, yellow strawberry; imbé; imbu; jaboticaba; jujube, Indian; kwai muk; mangaba; Marian plum; mombin, Malayan; mombin, purple; monkeyfruit; nance; natal plum; noni; papaya, mountain; persimmon, Japanese; pomerac; rambai; rose apple; sentul; starfruit; Surinam cherry; tamarind; uvalha; cultivars, varieties, and hybrids of these commodities.
Crop Subgroup 23C. Palm fruit, edible peel subgroup
Date | Açaí; apak palm; bacaba palm; bacaba-de-leque; date; doum palm coconut; jelly palm; patauá; peach palm, fruit; cultivars, varieties, and hybrids of these commodities.

(33) Crop Group 24. Tropical and Subtropical Fruit, Inedible Peel Group.

(i) Representative commodities. Atemoya or sugar apple, avocado, banana or pomegranate, dragon fruit, lychee, passionfruit, pineapple, and prickly pear, fruit.

(ii) Commodities. The following Table 1 lists all commodities included in Crop Group 24.

Table 1—Crop Group 24: Tropical and Subtropical Fruit, Inedible Peel
Commodities | Related crop subgroup
Abiu (Pouteria caimito (Ruiz & Pav.) Radlk) | 24B
Aisen (Boscia senegalensis (Pers.) Lam.) | 24A
Akee apple (Blighia sapida K.D. Koenig) | 24B
Atemoya (Annona cherimola Mill. X A. squamosa L.) | 24C
Avocado (Persea americana Mill.) | 24B
Avocado, Guatemalan (Persea americana Mill. var. guatemalensis) | 24B
Avocado, Mexican (Persea americana Mill. var. drymifolia (Schltdl. & Cham.) S. F. Blak) | 24B
Avocado, West Indian (Persea americana var. americana) | 24B
Bacury (Platonia insignis Mart.) | 24B
Bael fruit (Aegle marmelos (L.) Corrêa) | 24A
Banana (Musa spp.) | 24B
Banana, dwarf (Musa hybrids; Musa acuminata Colla) | 24B
Binjai (Mangifera caesia Jack) | 24B
Biriba (Annona mucosa Jacq.) | 24C
Breadfruit (Artocarpus altilis (Parkinson) Fosberg) | 24C
Burmese grape (Baccaurea ramiflora Lour.) | 24A
Canistel (Pouteria campechiana (Kunth) Baehni) | 24B
Cat's-eyes (Dimocarpus longan Lour. subsp. malesianus Leenh.) | 24A
Champedak (Artocarpus integer (Thunb.) Merr.) | 24C
Cherimoya (Annona cherimola Mill.) | 24C
Cupuacú (Theobroma grandiflorum (Willd. Ex Spreng.) K. Schum.) | 24B
Custard apple (Annona reticulata L.) | 24C
Dragon fruit (Hylocereus undatus (Haw.) Britton & Rose) | 24D
Durian (Durio zibethinus L.) | 24C
Elephant-apple (Limonia acidissima L.) | 24C
Etambe (Mangifera zeylanica (Blume) Hook. F.) | 24B
Granadilla (Passiflora ligularis Juss.) | 24E
Granadilla, giant (Passiflora quadrangularis L.) | 24E
Ilama (Annona macroprophyllata Donn. Sm.) | 24C
Ingá (Inga vera Willd. subsp. affinis (DC.) T. D. Penn.) | 24A
Jackfruit (Artocarpus heterophyllus Lam.) | 24C
Jatobá (Hymenaea courbaril L.) | 24B
Karuka (Pandanus julianettii Martelli) | 24C
Kei apple (Dovyalis caffra (Hook. F. & Harv.) Warb.) | 24B
Langsat (Lansium domesticum Corrêa) | 24B
Lanjut (Mangifera lagenifera Griff.) | 24B
Longan (Dimocarpus longan Lour.) | 24C
Lucuma (Pouteria lucuma (Ruiz & Pav.) Kuntze) | 24B
Lychee (Litchi chinensis Sonn.) | 24A
Mabolo (Diospyros blancoi A. DC.) | 24B
Madras-thorn (Pithecellobium dulce (Roxb.) Benth.) | 24A
Mammy-apple (Mammea americana L ) | 24C
Manduro (Balanites maughamii Sprague) | 24A
Mango (Mangifera indica L.) | 24B
Mango, horse (Mangifera foetida Lour.) | 24B
Mango, Saipan (Mangifera odorata Griff.) | 24B
Mangosteen (Garcinia mangostana L. ) | 24B
Marang (Artocarpus odoratissimus Blanco) | 24C
Marmaladebox (Genipa americana L.) | 24C
Matisia (Matisia cordata Humb. & Bonpl.) | 24A
Mesquite (Prosopis juliflora (Sw.) DC.) | 24A
Mongongo, fruit (Schinziophyton rautanenii (Schinz) Radcl.-Sm) | 24A
Monkey-bread-tree (Adansonia digitata L.) | 24C
Monstera (Monstera deliciosa Liebm.) | 24E
Nicobar-breadfruit (Pandanus leram Jones ex Fontana) | 24C
Paho (Mangifera altissima Blanco) | 24B
Pandanus (Pandanus utilis Bory) | 24C
Papaya (Carica papaya L.) | 24B
Passionflower, winged-stem (Passiflora alata Curtis) | 24E
Passionfruit (Passiflora edulis Sims) | 24E
Passionfruit, banana (Passiflora tripartita var. mollissima (Kunth) Holm-Niels. & P. Jorg.) | 24E
Passionfruit, purple (Passiflora edulis Sims forma edulis) | 24E
Passionfruit, yellow (Passiflora edulis Sims forma flavicarpa O. Deg.) | 24E
Pawpaw, common (Asimina triloba (L.) Dunal) | 24B
Pawpaw, small-flower (Asimina parviflora (Michx.) Dunal) | 24A
Pelipisan (Mangifera casturi Kosterm.) | 24B
Pequi (Caryocar brasiliense Cambess) | 24B
Pequia (Caryocar villosum (Aubl.) Pers.) | 24B
Persimmon (American (Diospyros virginiana L.) | 24B
Pineapple (Ananas comosus (L.) Merr.) | 24C
Pitahaya (Hylocereus polyrhizus (F. A. C. Weber) Britton & Rose) | 24D
Pitaya (Hylocereus sp. Including H. megalanthus (H. ocamponis and H. polychizus) | 24D
Pitaya, amarilla (Hylocereus triangularis Britton & Rose) | 24D
Pitaya, roja (Hylocereus ocamponis (Salm-Dyck) Britton & Rose) | 24D
Pitaya, yellow (Hylocereus megalanthus (K. Schum. ex Vaupel) Ralf Bauer) | 24D
Plantain (Musa paradisiaca L.) | 24B
Pomegranate (Punica granatum L.) | 24B
Poshte (Annona liebmanniana Baill.) | 24B
Prickly pear, fruit (Opuntia ficus-indica (L.) Mill.) | 24D
Prickly pear, Texas, fruit (Opuntia engelmannii Salm-Dyck ex Engelm. var. lindheimeri (Engelm.) B. D. Parfitt & Pinkav) | 24D
Pulasan (Nephelium ramboutan-ake (Labill.) Leenh.) | 24C
Quandong (Santalum acuminatum (R. Br.) DC.) | 24B
Rambutan (Nephelium lappaceum L.) | 24C
Saguaro (Carnegiea gigantea (Engelm.) Britton & Rose) | 24D
Sapodilla (Manilkara zapota (L.) P. Royen) | 24C
Sapote, black (Diospyros digyna Jacq.) | 24B
Sapote, green (Pouteria viridis (Pittier) Cronquist) | 24B
Sapote, mamey (Pouteria sapota (Jacq.) H.E. Moore & Stearn) | 24C
Sapote, white (Casimiroa edulis La Llave & Lex) | 24B
Sataw (Parkia speciosa Hassk.) | 24B
Satinleaf (Chrysophyllum oliviforme L.) | 24A
Screw-pine (Pandanus tectorius Parkinson) | 24B
Sierra Leone-tamarind (Dialium guineense Willd.) | 24A
Soncoya (Annona purpurea Moc. & Sessé ex Dunal) | 24C
Soursop (Annona muricata L.) | 24C
Spanish lime (Melicoccus bijugatus Jacq.) | 24A
Star apple (Chrysophyllum cainito L.) | 24B
Sugar apple (Annona squamosa L.) | 24C
Sun sapote (Licania platypus (Hemsl.) Fritsch) | 24C
Tamarind-of-the-Indies (Vangueria madagascariensis J. F. Gmel.) | 24B
Velvet tamarind (Dialium indum L.) | 24A
Wampi (Clausena lansium (Lour.) Skeels) | 24A
White star apple (Chrysophyllum albidum G. Don) | 24A
Wild loquat (Uapaca kirkiana Müll. Arg.) | 24B
Cultivars, varieties, and hybrids of these commodities |

(iii) Table. The following Table 2 identifies the crop subgroups for Crop Group 24, specifies the representative commodities for each subgroup, and lists all the commodities included in each subgroup.

Table 2—Crop Group 24: Subgroup Listing
Representative commodities | Commodities
Crop Subgroup 24A. Small fruit, inedible peel subgroup
Lychee | Aisen; bael fruit; Burmese grape; cat's eyes; ingá; lychee; madras-thorn; manduro; matisia; mesquite; mongongo, fruit; pawpaw, small-flower; satinleaf; Sierra Leone-tamarind; Spanish lime; velvet tamarind; wampi; white star apple; cultivars, varieties, and hybrids of these commodities.
Crop Subgroup 24B. Medium to large fruit, smooth, inedible peel subgroup
Avocado, plus pomegranate or banana | Abiu; akee apple; avocado; avocado, Guatemalan; avocado, Mexican; avocado, West Indian; bacury; banana; banana, dwarf; binjai; canistel; cupuacú; etambe; jatobá; kei apple; langstat; lanjut; lucuma; mabolo; mango; mango, horse; mango, Saipan; mangosteen; paho; papaya; pawpaw, common; pelipisan; pequi; pequia; persimmon, American; plantain; pomegranate; poshte; quandong; sapote, black; sapote, green; sapote, white; sataw; screw-pine; star apple; tamarind-of-the-Indies; wild loquat; cultivars, varieties, and hybrids of these commodities.
Crop Subgroup 24C. Medium to large fruit, rough or hairy, inedible peel subgroup
Pineapple, plus Atemoya or sugar apple | Atemoya; biriba; breadfruit; champedak; cherimoya; custard apple; durian; elephant-apple; ilama; jackfruit; karuka; longan; mammy-apple; marmalade-box; marang; monkey-bread tree; nicobar-breadfruit; pandanus; pineapple; pulasan; rambutan; sapodilla; sapote, mamey; soncoya; soursop; sugar apple; sun sapote; cultivars, varieties, and hybrids of these commodities.
Crop Subgroup 24D. Cactus, inedible peel subgroup
Dragon fruit and Prickly pear fruit | Dragon fruit; pitahaya; pitaya; pitaya amarilla; pitaya roja; pitaya, yellow; prickly pear, fruit; prickly pear, Texas, fruit; saguaro; cultivars, varieties, and hybrids of these commodities.
Crop Subgroup 24E. Vine, inedible peel subgroup
Passionfruit | Granadilla; granadilla, giant; monstera; passionflower, winged-stem; passionfruit; passionfruit, banana; passionfruit, purple; passionfruit, yellow; cultivars, varieties, and hybrids of these commodities.

[FR Doc. 2014-26661 Filed 11-13-14; 8:45 am]

BILLING CODE 6560-50-P